OFFICE OF PERSONNEL MANAGEMENT

Excepted Service; Consolidated Listing of Schedules A, B, and C Exceptions

AGENCY: Office of Personnel Management.

ACTION: Notice.

SUMMARY: This gives a consolidated notice of all positions excepted under Schedules A, B, and C as of June 30, 2007, as required by Civil Service Rule VI, Exceptions from the Competitive Service.

FOR FURTHER INFORMATION: C. Penn, Group Manager, Executive Resources Services Group, (202) 606-2246.

SUPPLEMENTARY INFORMATION: Civil Service Rule VI (5 CFR 6.1) requires The U.S. Office of Personnel Management (OPM) to publish notice of all exceptions granted under Schedules A, B, and C. Title 5, Code of Federal Regulations, 213.103(c), further requires that a consolidated listing, current as of June 30 of each year, be published annually as a notice in the Federal Register. That notice follows. OPM maintains continuing information on the status of all Schedule A, B, and C excepted appointing authorities. Interested parties needing information about specific authorities during the year may obtain information by writing to the Executive Resources Services Group, Center for Human Resources, Human Capital Leadership and Merit System Accountability Division, Office of Personnel Management, 1900 E Street, NW., Room 6484, Washington, DC 20415, or by calling (202) 606-2246.

The following exceptions were current on June 30, 2007:

Schedule A

Section 213.3102 Entire Executive Civil Service

(a) Positions of Chaplain and Chaplain's Assistant.

(b) (Reserved).

(c) Positions to which appointments are made by the President without confirmation by the Senate.

(d) Attorneys.

(e) Law clerk trainee positions. Appointments under this paragraph shall be confined to graduates of recognized law schools or persons having equivalent experience and shall be for periods not to exceed 14 months pending admission to the bar. No person shall be given more than one appointment under this paragraph. However, an appointment that was initially made for less than 14 months may be extended for not to exceed 14 months in total duration.

(f) (Reserved).

(g) (Reserved).

(h) (Reserved).

(i) Temporary and less-than-full time positions for which examining is impracticable.

These are:

(1) Positions in remote/isolated locations where examination is impracticable. A remote/isolated location is outside of the local commuting area of a population center from which an employee can reasonably be expected to travel on short notice under adverse weather and/or road conditions which are normal for the area. For this purpose, a population center is a town with housing, schools, health care, stores and other businesses in which the servicing examining office can schedule tests and/or reasonably expect to attract applicants. An individual appointed under this authority may not be employed in the same agency under a combination of this and any other appointment to positions involving related duties and requiring the same qualifications for more than 1,040 working hours in a service year. Temporary appointments under this authority may be extended in 1-year increments, with no limit on the number of such extensions, as an exception to the service limits in Sec. 213.104.

(2) Positions for which a critical hiring need exists. This includes both short-term positions and continuing positions that an agency must fill on an interim basis pending completion of competitive examining, clearances, or other procedures required for a longer appointment. Appointments under this authority may not exceed 30 days and may be extended up to an additional 30 days if continued employment is essential to the agency's operations. The appointments may not be used to extend the service limit of any other appointing authority. An agency may not employ the same individual under this authority for more than 60 days in any 12-month period.

(3) Other positions for which OPM determines that examining is impracticable.

(j) Positions filled by current or former Federal employees eligible for placement under special statutory provisions. Appointments under this authority are subject to the following conditions:

(1) Eligible employees.

(i) Persons previously employed as National Guard Technicians under 32 U.S.C. 709(a) who are entitled to placement under Sec. 353.110 of this chapter, or who are applying for or receiving an annuity under the provisions of 5 U.S.C. 8337(h) or 5 U.S.C. 8456 by reason of a disability that disqualifies them from membership in the National Guard or from holding the military grade required as a condition of their National Guard employment;

(ii) Executive branch employees (other than employees of intelligence agencies) who are entitled to placement under Sec. 353.110, but who are not eligible for reinstatement or noncompetitive appointment under the provisions of part 315 of this chapter.

(iii) Legislative and judicial branch employees and employees of the intelligence agencies defined in 5 U.S.C. 2302(a)(2)(C)(ii) who are entitled to placement assistance under Sec. 353.110.

(2) Employees excluded. Employees who were last employed in Schedule C or under a statutory authority that specified the employee served at the discretion, will, or pleasure of the agency are not eligible for appointment under this authority.

(3) Position to which appointed. Employees who are entitled to placement under Sec. 353.110 will be appointed to a position that OPM determines is equivalent in pay and grade to the one the individual left, unless the individual elects to be placed in a position of lower grade or pay. National Guard Technicians whose eligibility is based upon a disability may be appointed at the same grade, or equivalent, as their National Guard Technician position or at any lower grade for which they are available.

(4) Conditions of appointment.

(i) Individuals whose placement eligibility is based on an appointment without time limit will receive appointments without time limit under this authority. These appointees may be reassigned, promoted, or demoted to any position within the same agency for which they qualify.

(ii) Individuals who are eligible for placement under Sec. 353.110 based on a time-limited appointment will be given appointments for a time period equal to the unexpired portion of their previous appointment.

(k) Positions without compensation provided appointments thereto meet the requirements of applicable laws relating to compensation.

(l) Positions requiring the temporary or intermittent employment of professional, scientific, and technical experts for consultation purposes.

(m) (Reserved).

(n) Any local physician, surgeon, or dentist employed under contract or on a part-time or fee basis.

(o) Positions of a scientific, professional or analytical nature when filled by bona fide members of the faculty of an accredited college or university who have special qualifications for the positions to which appointed. Employment under this provision shall not exceed 130 working days a year.

(p)-(q) (Reserved).

(r) Positions established in support of fellowship and similar programs that are filled from limited applicant pools and operate under specific criteria developed by the employing agency and/or a non-Federal organization. These programs may include: internship or fellowship programs that provide developmental or professional experiences to individuals who have completed their formal education; training and associateship programs designed to increase the pool of qualified candidates in a particular occupational specialty; professional/industry exchange programs that provide for a cross-fertilization between the agency and the private sector to foster mutual understanding, an exchange of ideas, or to bring experienced practitioners to the agency; residency programs through which participants gain experience in a Federal clinical environment; and programs that require a period of Government service in exchange for educational, financial or other assistance. Appointment under this authority may not exceed 4 years.

(s) Positions with compensation fixed under 5 U.S.C. 5351-5356 when filled by student-employees assigned or attached to Government hospitals, clinics or medical or dental laboratories. Employment under this authority may not exceed 4 years.

(t) (Reserved)

(u) Appointment of Persons with Mental Retardation, Severe Physical Disabilities, or Psychiatric Disabilities.

(1) Purpose. An agency may appoint, on a permanent, time-limited, or temporary basis, a person with mental retardation, a severe physical disability according to the provisions proscribed below.

(2) Proof of disability. (i) An agency must require proof of an applicant's mental retardation, severe physical disability, or psychiatric disability prior to making an appointment under this section.

(ii) An agency may accept, as proof of an individual's mental retardation, severe physical disability, or psychiatric disability, appropriate documentation (e.g., records, statements, or other appropriate information) issued from a licensed medical professional (e.g., a physician or other medical professional duly certified by a State, the District of Columbia, or a U.S. territory that issues or provides disability benefits).

(3) Certification of job readiness. (i) An agency may accept certification that the individual is likely to succeed in the performance of the duties of the position for which he or she is applying. Certification of job readiness may be provided by any entity specified in paragraph (u)(2)(ii) of this section.

(ii) In cases where certification has not been provided, the hiring agency may give the individual a temporary appointment under this authority to determine the individual's job readiness. The agency may also accept, at the agency's discretion, service under another type of temporary appointment in the competitive or excepted services as proof of job readiness.

(4) Permanent or time-limited employment options. (i) An agency may make a permanent or time-limited appointment based upon:

(A) Proof of disability; and

(B) A certification of job readiness, or demonstration of job readiness through a temporary appointment.

(5) Temporary employment options. An agency may make a temporary appointment based upon proof of disability specified in paragraph (u)(2) of this section when:

(i) It is necessary to observe the applicant on the job to determine whether the applicant is able or ready to perform the duties of the position. When the agency uses this option to determine and individual's job readiness, the hiring agency may convert the individual to a permanent appointment whenever the agency determines the individual is able to perform the duties of the position; or

(ii) The individual has a certification of job readiness and the work is of a temporary nature.

(6) Noncompetitive conversion to the competitive service. (i) An agency may noncompetitively convert to the competitive service an employee who has completed 2 years of satisfactory service in a nontemporary appointment under this authority in accordance with the provision of Executive Order 12125 as amended by Executive Order 13124 and § 315.709 of this chapter.

(ii) An agency may credit the time spent on a temporary appointment specified in paragraph (u)5) of this section in paragraph towards the 2-year requirement.

(v)-(w) (Reserved).

(x) Positions for which a local recruiting shortage exists when filled by inmates of Federal, District of Columbia, and State (including the Commonwealth of Puerto Rico, the Virgin Islands, Guam, American Samoa, and the Trust Territory of the Pacific Islands) penal and correctional institutions under work-release programs authorized by the Prisoner Rehabilitation Act of 1965, the District of Columbia Work Release Act, or under work-release programs authorized by the States. Initial appointments under this authority may not exceed 1 year. An initial appointment may be extended for one or more periods not to exceed 1 additional year each upon a finding that the inmate is still in a work-release status and that a local recruiting shortage still exists. No person may serve under this authority longer than 1 year beyond the date of that person's release from custody.

(y) (Reserved).

(z) Not to exceed 30 positions of assistants to top-level Federal officials when filled by persons designated by the President as White House Fellows.

(aa) Scientific and professional research associate positions at GS-11 and above when filled on a temporary basis by persons having a doctoral degree in an appropriate field of study for research activities of mutual interest to appointees and their agencies. Appointments are limited to persons referred by the National Research Council under its post-doctoral research associate program, may not exceed 2 years, and are subject to satisfactory outcome of evaluation of the associate's research during the first year.

(bb) Positions when filled by aliens in the absence of qualified citizens. Appointments under this authority are subject to prior approval of OPM except when the authority is specifically included in a delegated examining agreement with OPM.

(cc)-(ee) (Reserved).

(ff) Not to exceed 25 positions when filled in accordance with an agreement between OPM and the Department of Justice by persons in programs administered by the Attorney General of the United States under Public Law 91-452 and related statutes. A person appointed under this authority may continue to be employed under it after he/she ceases to be in a qualifying program only as long as he/she remains in the same agency without a break in service.

(gg)-(hh) (Reserved).

(ii) Positions of Fellows in the Presidential Management Fellows Program. Initial appointments of Fellows are made at either the GS-9, GS-11, or GS-12 level (or their equivalents), depending on the candidate's qualifications. Appointments are made under this authority for 2 years; however, upon approval of OPM, the head of the department, agency, or component within the Executive Office of the President may extend the appointment for up to 1 additional year. Upon the Fellow's satisfactory completion of the Program, as certified by the employing agency's Executive Resources Board (ERG) or equivalent, the employing agency must noncompetitively appoint the Fellow to a full-time, permanent position in the competitive service as prescribed in Sec. 315.708 and part 362 of this chapter.

(jj) Positions of Senior Fellows in the Presidential Management Fellows Program. Initial appointments are made at either the GS-13, GS-14, or GS-15 level (or their equivalents), depending on the candidate's qualifications. Appointments may be made under this authority for 2 years; however, upon approval of OPM, the head of the department, agency, or component within the Executive Office of the President may extend the Senior Fellow's appointment for up to 1 additional year. Upon the Senior Fellow's satisfactory completion of the Program, as certified by the employing agency's Executive Resources Board (ERB) or equivalent, the employing agency must noncompetitively appoint the Fellow to a full-time, permanent position in the competitive service as prescribed in Sec. 315.708 and part 362 of this chapter. If a Senior Fellow successfully completes the Program, as certified by the appointing agency's ERB or equivalent, he/she may, at the agency's discretion, be appointed to a position in the Senior Executive Service (SES) (or equivalent) without further competition and only one time, in the same manner, and subject to the same Qualifications Review Board review, as an individual who has successfully completed an OPM-approved SES candidate development program under parts 317 and 412 of this chapter.

(kk) (Reserved).

(ll) Positions as needed of readers for blind employees, interpreters for deaf employees and personal assistants for handicapped employees, filled on a full-time, part-time, or intermittent basis.

Section 213.3103 Executive Office of the President

(a) Office of Administration.

(1) Not to exceed 75 positions to provide administrative services and support to the White House Office.

(b) Office of Management and Budget.

(1) Not to exceed 15 positions at grades GS-5/15.

(c) Council on Environmental Quality.

(1) Professional and technical positions in grades GS-9 through 15 on the staff of the Council.

(d)-(f) (Reserved).

(g) National Security Council.

(1) All positions on the staff of the Council.

(h) Office of Science and Technology Policy.

(1) Thirty positions of Senior Policy Analyst, GS-15; Policy Analyst, GS-11/14; and Policy Research Assistant, GS-9, for employment of anyone not to exceed 5 years on projects of a high priority nature.

(i) Office of National Drug Control Policy.

(1) Not to exceed 15 positions, GS-15 and below, of senior policy analysts and other personnel with expertise in drug-related issues and/or technical knowledge to aid in anti-drug abuse efforts.

Section 213.3104 Department of State

(a) Office of the Secretary.

(1) All positions, GS-15 and below, on the staff of the Family Liaison Office, Director General of the Foreign Service and the Director of Personnel, Office of the Under Secretary for Management.

(2) One position of Museum Curator (Arts), in the Office of the Under Secretary for Management, whose incumbent will serve as Director, Diplomatic Reception Rooms. No new appointments may be made after February 28, 1997.

(b) American Embassy, Paris, France.

(1) Chief, Travel and Visitor Unit. No new appointments may be made under this authority after August 10, 1981.

(c)-(f) (Reserved).

(g) Bureau of Population, Refugees, and Migration.

(1) Not to exceed 10 positions at grades GS-5 through 11 on the staff of the Bureau.

(h) Bureau of Administration.

(1) One Presidential Travel Officer. No new appointments may be made under this authority after June 11, 1981.

(2) One position of the Director, Art in Embassies Program, GM-1001-15.

(3) Up to 250 time-limited positions within the Department of State in support of the June 2004 Economic Summit of Industrial Nations. No new appointments may be made under this authority after June 30, 2004.

Section 213.3105 Department of the Treasury

(a) Office of the Secretary.

(1) Not to exceed 20 positions at the equivalent of GS-13 through GS-17 to supplement permanent staff in the study of complex problems relating to international financial, economic, trade, and energy policies and programs of the Government, when filled by individuals with special qualifications for the particular study being undertaken. Employment under this authority may not exceed 4 years.

(2) Not to exceed 20 positions, which will supplement permanent staff involved in the study and analysis of complex problems in the area of domestic economic and financial policy. Employment under this authority may not exceed 4 years.

(3) Not to exceed 50 positions in the Office of the Under Secretary (Enforcement).

(b) U.S. Customs Service.

(1) Positions in foreign countries designated as “interpreter-translator” and “special employees,” when filled by appointment of persons who are not citizens of the United States; and positions in foreign countries of messenger and janitor.

(2)-(8) (Reserved).

(9) Not to exceed 25 positions of Customs Patrol Officers in the Papago Indian Agency in the State of Arizona when filled by the appointment of persons of one-fourth or more Indian blood.

(d) Office of Thrift Supervision.

(1) All positions in the supervision policy and supervision operations functions of OTS. No new appointments may be made under this authority after December 31, 1993.

(e) Internal Revenue Service.

(1) Twenty positions of investigator for special assignments.

(f) (Reserved).

(g) Bureau of Alcohol, Tobacco, and Firearms.

(1) One hundred positions of criminal investigator for special assignments.

(2) One non-permanent Senior Level (SL) Criminal Investigator to serve as a senior advisor to the Assistant Director (Firearms, Explosives, and Arson).

Section 213.3106 Department of Defense

(a) Office of the Secretary.

(1)-(5) (Reserved).

(6) One Executive Secretary, U.S.-USSR Standing Consultative Commission and Staff Analyst (SALT), Office of the Assistant Secretary of Defense (International Security Affairs).

(b) Entire Department (including the Office of the Secretary of Defense and the Departments of the Army, Navy, and Air Force).

(1) Professional positions in Military Dependent School Systems overseas.

(2) Positions in attache 1 systems overseas, including all professional and scientific positions in the Naval Research Branch Office in London.

(3) Positions of clerk-translator, translator, and interpreter overseas.

(4) Positions of Educational Specialist the incumbents of which will serve as Director of Religious Education on the staffs of the chaplains in the military services.

(5) Positions under the program for utilization of alien scientists, approved under pertinent directives administered by the Director of Defense Research and Engineering of the Department of Defense, when occupied by alien scientists initially employed under the program including those who have acquired United States citizenship during such employment.

(6) Positions in overseas installations of the DOD when filled by dependents of military or civilian employees of the U.S. Government residing in the area. Employment under this authority may not extend longer than 2 months following the transfer from the area or separation of a dependent's sponsor: Provided, that

(i) A school employee may be permitted to complete the school year; and

(ii) An employee other than a school employee may be permitted to serve up to 1 additional year when the military department concerned finds that the additional employment is in the interest of management.

(7) Twenty secretarial and staff support positions at GS-12 or below on the White House Support Group.

(8) Positions in DOD research and development activities occupied by participants in the DOD Science and Engineering Apprenticeship Program for High School Students. Persons employed under this authority shall be bona fide high school students, at least 14 years old, pursuing courses related to the position occupied and limited to 1,040 working hours a year. Children of DOD employees may be appointed to these positions, notwithstanding the sons and daughters restriction, if the positions are in field activities at remote locations. Appointments under this authority may be made only to positions for which qualification standards established under 5 CFR part 302 are consistent with the education and experience standards established for comparable positions in the competitive service. Appointments under this authority may not be used to extend the service limits contained in any other appointing authority.

(9) Positions engaged in the reconstruction of Iraq for hiring non-U.S. citizens when there is a severe shortage of candidates with U.S. citizenship. This authority is limited to appointments made on or before July 1, 2004, and is subject to any restrictions set forth in the Department of Defense FY 2002 Appropriations Act.

(10) Temporary or time-limited positions in direct support of U.S. Government efforts to rebuild and create an independent, free and secure Iraq and Afghanistan, when no other appropriate appointing authority applies. Positions will generally be located in Iraq or Afghanistan, but may be in other locations, including the United States, when directly supporting operations in Iraq or in Afghanistan. No new appointments may be made under this authority after March 31, 2009.

(c) (Reserved).

(d) General.

(1) Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

(2) Positions involved in intelligence-related work of the cryptologic intelligence activities of the military departments. This includes all positions of intelligence research specialist, and similar positions in the intelligence classification series; all scientific and technical positions involving the applications of engineering, physical or technical sciences to intelligence work; and professional as well as intelligence technician positions in which a majority of the incumbent's time is spent in advising, administering, supervising, or performing work in the collection, processing, analysis, production, evaluation, interpretation, dissemination, and estimation of intelligence information or in the planning, programming, and management of intelligence resources.

(e) Uniformed Services University of the Health Sciences.

(1) Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows.

(2) Positions established to perform work on projects funded from grants.

(f) National Defense University.

(1) Not to exceed 16 positions of senior policy analyst, GS-15, at the Strategic Concepts Development Center. Initial appointments to these positions may not exceed 6 years, but may be extended thereafter in 1-, 2-, or 3-year increments, indefinitely.

(g) Defense Communications Agency.

(1) Not to exceed 10 positions at grades GS-10/15 to staff and support the Crisis Management Center at the White House.

(h) Defense Acquisitions University.

(1) The Provost and professors.

(i) George C. Marshall European Center for Security Studies, Garmisch, Germany.

(1) The Director, Deputy Director, and positions of professor, instructor, and lecturer at the George C. Marshall European Center for Security Studies, Garmisch, Germany, for initial employment not to exceed 3 years, which may be renewed in increments from 1 to 2 years thereafter.

(j) Asia-Pacific Center for Security Studies, Honolulu, Hawaii.

(1) The Director, Deputy Director, Dean of Academics, Director of College, deputy department chairs, and senior positions of professor, associate professor, and research fellow within the Asia Pacific Center. Appointments may be made not to exceed 3 years and may be extended for periods not to exceed 3 years.

(k) Business Transformation Agency. (1) Fifty temporary or time-limited (not to exceed four years) positions, at grades GS-11-15. The authority will be used to appoint persons in the following series: Management and Program Analysis, GS-343: Logistics Management, GS-346; Financial Management Programs, GS-501; Accounting, GS-510; Computer Engineering, GS-854; Business and Industry, GS-1101; Operations Research, GS-1515; Computer Science, GS-1550; General Supply, GS-2001; Supply Program Management, GS-2003; Inventory Management, GS-2010; and Information Technology, GS-2210.

Section 213.3107 Department of the Army

(a)-(c) (Reserved).

(d) U.S. Military Academy, West Point, New York.

(1) Civilian professors, instructors, teachers (except teachers at the Children's School), Cadet Social Activities Coordinator, Chapel Organist and Choir-Master, Director of Intercollegiate Athletics, Associate Director of Intercollegiate Athletics, coaches, Facility Manager, Building Manager, three Physical Therapists (Athletic Trainers), Associate Director of Admissions for Plans and Programs, Deputy Director of Alumni Affairs; and librarian when filled by an officer of the Regular Army retired from active service, and the military secretary to the Superintendent when filled by a U.S. Military Academy graduate retired as a regular commissioned officer for disability.

(e)-(f) (Reserved).

(g) Defense Language Institute.

(1) All positions (professors, instructors, lecturers) which require proficiency in a foreign language or a knowledge of foreign language teaching methods.

(h) Army War College, Carlisle Barracks, PA.

(1) Positions of professor, instructor, or lecturer associated with courses of instruction of at least 10 months duration for employment not to exceed 5 years, which may be renewed in 1-, 2-, 3-, 4-, or 5-year increments indefinitely thereafter.

(i) (Reserved).

(j) U.S. Military Academy Preparatory School, Fort Monmouth, New Jersey.

(1) Positions of Academic Director, Department Head, and Instructor.

(k) U.S. Army Command and General Staff College, Fort Leavenworth, Kansas.

(1) Positions of professor, associate professor, assistant professor, and instructor associated with courses of instruction of at least 10 months duration, for employment not to exceed up to 5 years, which may be renewed in 1-, 2-, 3-, 4-, or 5-year increments indefinitely thereafter.

Section 213.3108 Department of the Navy

(a) General.

(1)-(14) (Reserved).

(15) Marine positions assigned to a coastal or seagoing vessel operated by a naval activity for research or training purposes.

(16) All positions necessary for the administration and maintenance of the official residence of the Vice President.

(b) Naval Academy, Naval Postgraduate School, and Naval War College.

(1) Professors, instructors, and teachers; the Director of Academic Planning, Naval Postgraduate School; and the Librarian, Organist-Choirmaster, Registrar, the Dean of Admissions, and social counselors at the Naval Academy.

(c) Chief of Naval Operations.

(1) One position at grade GS-12 or above that will provide technical, managerial, or administrative support on highly classified functions to the Deputy Chief of Naval Operations (Plans, Policy, and Operations).

(d) Military Sealift Command.

(1) All positions on vessels operated by the Military Sealift Command.

(e) Pacific Missile Range Facility, Barking Sands, Hawaii.

(1) All positions. This authority applies only to positions that must be filled pending final decision on contracting of Facility operations. No new appointments may be made under this authority after July 29, 1988.

(f) (Reserved).

(g) Office of Naval Research.

(1) Scientific and technical positions, GS-13/15, in the Office of Naval Research International Field Office which covers satellite offices within the Far East, Africa, Europe, Latin America, and the South Pacific. Positions are to be filled by personnel having specialized experience in scientific and/or technical disciplines of current interest to the Department of the Navy.

Section 213.3109 Department of the Air Force

(a) Office of the Secretary.

(1) One Special Assistant in the Office of the Secretary of the Air Force. This position has advisory rather than operating duties except as operating or administrative responsibilities may be exercised in connection with the pilot studies.

(b) General.

(1) Professional, technical, managerial and administrative positions supporting space activities, when approved by the Secretary of the Air Force.

(2) One hundred forty positions, serviced by Hill Air Force Base, Utah, engaged in interdepartmental activities in support of national defense projects involving scientific and technical evaluations.

(c) Not to exceed 20 professional positions, GS-11 through GS-15, in Detachments 6 and 51, SM-ALC, Norton and McClellan Air Force Bases, California, which will provide logistic support management to specialized research and development projects.

(d) U.S. Air Force Academy, Colorado.

(1) (Reserved).

(2) Positions of Professor, Associate Professor, Assistant Professor, and Instructor, in the Dean of Faculty, Commandant of Cadets, Director of Athletics, and Preparatory School of the United States Air Force Academy.

(e) (Reserved).

(f) Air Force Office of Special Investigations.

(1) Positions of Criminal Investigators/Intelligence Research Specialists, GS-5 through GS-15, in the Air Force Office of Special Investigations.

(g) Not to exceed eight positions, GS-12 through 15, in Headquarters Air Force Logistics Command, DCS Material Management, Office of Special Activities, Wright-Patterson Air Force Base, Ohio, which will provide logistic support management staff guidance to classified research and development projects.

(h) Air University, Maxwell Air Force Base, Alabama.

(1) Positions of Professor, Instructor, or Lecturer.

(i) Air Force Institute of Technology, Wright-Patterson Air Force Base, Ohio.

(1) Civilian deans and professors.

(j) Air Force Logistics Command.

(1) One Supervisory Logistics Management Specialist, GM-346-14, in Detachment 2, 2762 Logistics Management Squadron (Special), Greenville, Texas.

(k) One position of Supervisory Logistics Management Specialist, GS-346-15, in the 2762nd Logistics Squadron (Special), at Wright-Patterson Air Force Base, Ohio.

(l) One position of Commander, Air National Guard Readiness Center, Andrews Air Force Base, Maryland.

Section 213.3110 Department of Justice

(a) General.

(1) Deputy U.S. Marshals employed on an hourly basis for intermittent service.

(2) Positions at GS-15 and below on the staff of an office of a special counsel.

(3)-(5) (Reserved).

(6) Positions of Program Manager and Assistant Program Manager supporting the International Criminal Investigative Training Assistance Program in foreign countries. Initial appointments under this authority may not exceed 2 years, but may be extended in one-year increments for the duration of the in-country program.

(b) Immigration and Naturalization Service.

(1) (Reserved).

(2) Not to exceed 500 positions of interpreters and language specialists, GS-1040-5/9.

(3) Not to exceed 25 positions, GS-15 and below, with proficiency in speaking, reading, and writing the Russian language and serving in the Soviet Refugee Processing Program with permanent duty location in Moscow, Russia.

(c) Drug Enforcement Administration.

(1) (Reserved).

(2) Four hundred positions of Intelligence Research Agent and/or Intelligence Operation Specialist in the GS-132 series, grades GS-9 through GS-15.

(3) Not to exceed 200 positions of Criminal Investigator (Special Agent). New appointments may be made under this authority only at grades GS-7/11.

(d) National Drug Intelligence Center. All positions.

Section 213.3111 Department of Homeland Security

(a) Up to 50 positions at the GS-5 through 15 grade levels at the Department of Homeland Security. No new appointments may be made under this authority after September 30, 2005.

(b)(1) Ten positions for over site policy and direction of sensitive law enforcement activities.

(c) Up to 15 Senior Level and General Schedule (or equivalent) positions within the Homeland Security Labor Relations Board and the Homeland Security Mandatory Removal Board.

Section 213.3112 Department of the Interior

(a) General.

(1) Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

(2) All positions on Government-owned ships or vessels operated by the Department of the Interior.

(3) Temporary or seasonal caretakers at temporarily closed camps or improved areas to maintain grounds, buildings, or other structures and prevent damages or theft of Government property. Such appointments shall not extend beyond 130 working days a year without the prior approval of OPM.

(4) Temporary, intermittent, or seasonal field assistants at GS-7, or its equivalent, and below in such areas as forestry, range management, soils, engineering, fishery and wildlife management, and with surveying parties. Employment under this authority may not exceed 180 working days a year.

(5) Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

(6) Persons employed in field positions, the work of which is financed jointly by the Department of the Interior and cooperating persons or organizations outside the Federal service.

(7) All positions in the Bureau of Indian Affairs and other positions in the Department of the Interior directly and primarily related to providing services to Indians when filled by the appointment of Indians. The Secretary of the Interior is responsible for defining the term “Indian.”

(8) Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

(9) Temporary, part-time, or intermittent employment of mechanics, skilled laborers, equipment operators and tradesmen on construction, repair, or maintenance work not to exceed 180 working days a year in Alaska, when the activity is carried on in a remote or isolated area and there is a shortage of available candidates for the positions.

(10) Seasonal airplane pilots and airplane mechanics in Alaska, not to exceed 180 working days a year.

(11) Temporary staff positions in the Youth Conservation Corps Centers operated by the Department of the Interior. Employment under this authority shall not exceed 11 weeks a year except with prior approval of OPM.

(12) Positions in the Youth Conservation Corps for which pay is fixed at the Federal minimum wage rate. Employment under this authority may not exceed 10 weeks.

(b) (Reserved).

(c) Indian Arts and Crafts Board. (1) The Executive Director.

(d) (Reserved).

(e) Office of the Assistant Secretary, Territorial and International Affairs.

(1) (Reserved).

(2) Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months.

(3) (Reserved).

(4) Special Assistants to the Governor of American Samoa who perform specialized administrative, professional, technical, and scientific duties as members of his or her immediate staff.

(f) National Park Service.

(1) (Reserved).

(2) Positions established for the administration of Kalaupapa National Historic Park, Molokai, Hawaii, when filled by appointment of qualified patients and Native Hawaiians, as provided by Public Law 95-565.

(3) Seven full-time permanent and 31 temporary, part-time, or intermittent positions in the Redwood National Park, California, which are needed for rehabilitation of the park, as provided by Public Law 95-250.

(4) One Special Representative of the Director.

(5) All positions in the Grand Portage National Monument, Minnesota, when filled by the appointment of recognized members of the Minnesota Chippewa Tribe.

(g) Bureau of Reclamation.

(1) Appraisers and examiners employed on a temporary, intermittent, or part-time basis on special valuation or prospective-entrymen-review projects where knowledge of local values on conditions or other specialized qualifications not possessed by regular Bureau employees are required for successful results. Employment under this provision shall not exceed 130 working days a year in any individual case: Provided, that such employment may, with prior approval of OPM, be extended for not to exceed an additional 50 working days in any single year.

(h) Office of the Deputy Assistant Secretary for Territorial Affairs.

(1) Positions of Territorial Management Interns, GS-5, when filled by persons selected by the Government of the Trust Territory of the Pacific Islands. No appointment may extend beyond 1 year.

Section 213.3113 Department of Agriculture

(a) General.

(1) Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

(2)-(4) (Reserved).

(5) Temporary, intermittent, or seasonal employment in the field service of the Department in positions at and below GS-7 and WG-10 in the following types of positions: Field assistants for sub professional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of Sec. 213.3102 or positions within the Forest Service.

(6)-(7) (Reserved).

(b)-(c) (Reserved).

(d) Farm Service Agency.

(1) (Reserved).

(2) Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

(e) Rural Development.

(1) (Reserved).

(2) County committeemen to consider, recommend, and advise with respect to the Rural Development program.

(3)-(5) (Reserved).

(6) Professional and clerical positions in the Trust Territory of the Pacific Islands when occupied by indigenous residents of the Territory to provide financial assistance pursuant to current authorizing statutes.

(f) Agricultural Marketing Service.

(1) Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

(2) Positions of Agricultural Commodity Graders, Agricultural Commodity Technicians, and Agricultural Commodity Aids at grades GS-11 and below in the cotton, raisin, and processed fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

(3) Milk Market Administrators.

(4) All positions on the staffs of the Milk Market Administrators.

(g)-(k) (Reserved).

(l) Food Safety and Inspection Service.

(1)-(2) (Reserved).

(3) Positions of Meat and Poultry Inspectors (Veterinarians at GS-11 and below and non-Veterinarians at appropriate grades below GS-11) for employment on a temporary, intermittent, or seasonal basis, not to exceed 1,280 hours a year.

(m) Grain Inspection, Packers and Stockyards Administration.

(1) One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

(n) Alternative Agricultural Research and Commercialization Corporation.

(1) Executive Director.

Section 213.3114 Department of Commerce

(a) General.

(1)-(2) (Reserved).

(3) Not to exceed 50 scientific and technical positions whose duties are performed primarily in the Antarctic. Incumbents of these positions may be stationed in the continental United States for periods of orientation, training, analysis of data, and report writing.

(b)-(c) (Reserved).

(d) Bureau of the Census.

(1) Managers, supervisors, technicians, clerks, interviewers, and enumerators in the field service, for time-limited employment to conduct a census.

(2) Current Program Interviewers employed in the field service.

(e)-(h) (Reserved).

(i) Office of the Under Secretary for International Trade.

(1) Fifteen positions at GS-12 and above in specialized fields relating to international trade or commerce in units under the jurisdiction of the Under Secretary for International Trade. Incumbents will be assigned to advisory rather than to operating duties, except as operating and administrative responsibility may be required for the conduct of pilot studies or special projects. Employment under this authority will not exceed 2 years for an individual appointee.

(2) (Reserved).

(3) Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters. Appointments under this authority may be made for a period of not to exceed 2 years and may, with prior approval of OPM, be extended for an additional period of 2 years.

(j) National Oceanic and Atmospheric Administration.

(1)-(2) (Reserved).

(3) All civilian positions on vessels operated by the National Ocean Service.

(4) Temporary positions required in connection with the surveying operations of the field service of the National Ocean Service. Appointment to such positions shall not exceed 8 months in any 1 calendar year.

(k) (Reserved).

(l) National Telecommunication and Information Administration.

(1) Thirty-eight professional positions in grades GS-13 through GS-15.

Section 213.3115 Department of Labor

(a) Office of the Secretary.

(1) Chairman and five members, Employees' Compensation Appeals Board.

(2) Chairman and eight members, Benefits Review Board.

(b)-(c) (Reserved).

(d) Employment and Training Administration.

(1) Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

Section 213.3116 Department of Health and Human Services

(a) General.

(1) Intermittent positions, at GS-15 and below and WG-10 and below, on teams under the National Disaster Medical System including Disaster Medical Assistance Teams and specialty teams, to respond to disasters, emergencies, and incidents/events involving medical, mortuary and public health needs.

(b) Public Health Service.

(1) (Reserved).

(2) Positions at Government sanatoria when filled by patients during treatment or convalescence.

(3) (Reserved).

(4) Positions concerned with problems in preventive medicine financed or participated in by the Department of Health and Human Services and a cooperating State, county, municipality, incorporated organization, or an individual in which at least one-half of the expense is contributed by the participating agency either in salaries, quarters, materials, equipment, or other necessary elements in the carrying on of the work.

(5)-(6) (Reserved).

(7) Not to exceed 50 positions associated with health screening programs for refugees.

(8) All positions in the Public Health Service and other positions in the Department of Health and Human Services directly and primarily related to providing services to Indians when filled by the appointment of Indians. The Secretary of Health and Human Services is responsible for defining the term “Indian.”

(9) (Reserved).

(10) Health care positions of the National Health Service Corps for employment of any one individual not to exceed 4 years of service in health manpower shortage areas.

(11)-(14) (Reserved).

(15) Not to exceed 200 staff positions, GS-15 and below, in the Immigration Health Service, for an emergency staff to provide health related services to foreign entrants.

(c)-(e) (Reserved).

(f) The President's Council on Physical Fitness.

(1) Four staff assistants.

Section 213.3117 Department of Education

(a) Positions concerned with problems in education financed and participated in by the Department of Education and a cooperating State educational agency, or university or college, in which there is joint responsibility for selection and supervision of employees, and at least one-half of the expense is contributed by the cooperating agency in salaries, quarters, materials, equipment, or other necessary elements in the carrying on of the work.

Section 213.3124 Board of Governors, Federal Reserve System

(a) All positions.

Section 213.3127 Department of Veterans Affairs

(a) Construction Division.

(1) Temporary construction workers paid from “purchase and hire” funds and appointed for not to exceed the duration of a construction project.

(b) Not to exceed 400 positions of rehabilitation counselors, GS-3 through GS-11, in Alcoholism Treatment Units and Drug Dependence Treatment Centers, when filled by former patients.

(c) Board of Veterans' Appeals.

(1) Positions, GS-15, when filled by a member of the Board. Except as provided by section 201(d) of Public Law 100-687, appointments under this authority shall be for a term of 9 years, and may be renewed.

(2) Positions, GS-15, when filled by a non-member of the Board who is awaiting Presidential approval for appointment as a Board member.

(d) Not to exceed 600 positions at grades GS-3 through GS-11, involved in the Department's Vietnam Era Veterans Readjustment Counseling Service.

Section 213.3128 Broadcasting Board of Governors

(a) International Broadcasting Bureau.

(1) Not to exceed 200 positions at grades GS-15 and below in the Office of Cuba Broadcasting. Appointments may not be made under this authority to administrative, clerical, and technical support positions.

Section 213.3132 Small Business Administration

(a) When the President under 42 U.S.C. 1855-1855g, the Secretary of Agriculture under 7 U.S.C. 1961, or the Small Business Administration under 15 U.S.C. 636(b)(1) declares an area to be a disaster area, positions filled by time-limited appointment of employees to make and administer disaster loans in the area under the Small Business Act, as amended. Service under this authority may not exceed 4 years, and no more than 2 years may be spent on a single disaster. Exception to this time limit may only be made with prior Office of Personnel Management approval. Appointments under this authority may not be used to extend the 2-year service limit contained in paragraph (b) below. No one may be appointed under this authority to positions engaged in long-term maintenance of loan portfolios.

(b) When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

Section 213.3133 Federal Deposit Insurance Corporation

(a)-(b) (Reserved).

(c) Temporary positions located at closed banks or savings and loan institutions that are concerned with liquidating the assets of the institutions, liquidating loans to the institutions, or paying the depositors of closed insured institutions. New appointments may be made under this authority only during the 60 days immediately following the institution's closing date. Such appointments may not exceed 1 year, but may be extended for not to exceed 1 additional year.

Section 213.3136 U.S. Soldiers' and Airmen's Home

(a) (Reserved).

(b) Positions when filled by member-residents of the Home.

Section 213.3146 Selective Service System

(a) State Directors.

Section 213.3148 National Aeronautics and Space Administration

(a) One hundred and fifty alien scientists having special qualifications in the fields of aeronautical and space research where such employment is deemed by the Administrator of the National Aeronautics and Space Administration to be necessary in the public interest.

Section 213.3155 Social Security Administration

(a) Six positions of Social Insurance Representative in the district offices of the Social Security Administration in the State of Arizona when filled by the appointment of persons of one-fourth or more Indian blood.

(b) Seven positions of Social Insurance Representative in the district offices of the Social Security Administration in the State of New Mexico when filled by the appointment of persons of one-fourth or more Indian blood.

(c) Two positions of Social Insurance Representative in the district offices of the Social Security Administration in the State of Alaska when filled by the appointments of persons of one-fourth or more Alaskan Native blood (Eskimos, Indians, or Aleuts).

Section 213.3162 The President's Crime Prevention Council

(a) Up to 7 positions established in the President's Crime Prevention Council office created by the Violent Crime Control and Law Enforcement Act of 1994. No new appointments may be made under this authority after March 31, 1998.

Section 213.3165 Chemical Safety and Hazard Investigation Board

(a) (Reserved).

(b) Seven positions of either Chemical Incident Investigators or Chemical Safety Recommendation Specialists, in the Office of Investigations and Safety Programs. No new appointments may be made under this authority after October 15, 2002, or until the seventh person (who was given an offer of employment on September 13, 2002, and is waiting a physical examination clearance) is appointed, whichever is later.

Section 213.3166 Court Services and Offender Supervision Agency of the District of Columbia

(a) All positions, except for the Director, established to create the Court Services and Offender Supervision Agency of the District of Columbia. No new appointments may be made under this authority after March 31, 2004.

Section 213.3170 Millennium Challenge Corporation

(a) All positions established to create the Millennium Challenge Corporation. No new appointments may be made under this authority after September 30, 2007.

Section 213.3174 Smithsonian Institution

(a) (Reserved).

(b) All positions located in Panama which are part of or which support the Smithsonian Tropical Research Institute.

(c) Positions at GS-15 and below in the National Museum of the American Indian requiring knowledge of, and experience in, tribal customs and culture. Such positions comprise approximately 10 percent of the Museum's positions and, generally, do not include secretarial, clerical, administrative, or program support positions.

Section 213.3175 Woodrow Wilson International Center for Scholars

(a) One Asian Studies Program Administrator, one International Security Studies Program Administrator, one Latin American Program Administrator, one Russian Studies Program Administrator, one West European Program Administrator, one Environmental Change & Security Studies Program Administrator, one United States Studies Program Administrator, two Social Science Program Administrators, and one Middle East Studies Program Administrator.

Section 213.3178 Community Development Financial Institutions Fund

(a) All positions in the Fund and positions created for the purpose of establishing the Fund's operations in accordance with the Community Development Banking and Financial Institutions Act of 1994, except for any positions required by the Act to be filled by competitive appointment. No new appointments may be made under this authority after September 23, 1998.

Section 213.3180 Utah Reclamation and Conservation Commission

(a) Executive Director.

Section 213.3182 National Foundation on the Arts and the Humanities

(a) National Endowment for the Arts.

(1) Artistic and related positions at grades GS-13 through GS-15 engaged in the review, evaluation and administration of applications and grants supporting the arts, related research and assessment, policy and program development, arts education, access programs and advocacy or evaluation of critical arts projects and outreach programs. Duties require artistic stature, in-depth knowledge of arts disciplines and/or artistic-related leadership qualities.

Section 213.3190 African Development Foundation

(a) One Enterprise Development Fund Manager. Appointment authority is limited to four years unless extended by the Office of Personnel Management.

Section 213.3191 Office of Personnel Management

(a)-(c) (Reserved).

(d) Part-time and intermittent positions of test examiners at grades GS-8 and below.

Section 213.3194 Department of Transportation

(a) U.S. Coast Guard.

(1) (Reserved).

(2) Lamplighters.

(3) Professors, Associate Professors, Assistant Professors, Instructors, one Principal Librarian, one Cadet Hostess, and one Psychologist (Counseling) at the Coast Guard Academy, New London, Connecticut.

(b)-(d) (Reserved).

(e) Maritime Administration.

(1)-(2) (Reserved).

(3) All positions on Government-owned vessels or those bareboats chartered to the Government and operated by or for the Maritime Administration.

(4)-(5) (Reserved).

(6) U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

(7) U.S. Merchant Marine Academy positions of: Associate Dean; Registrar; Director of Admissions; Assistant Director of Admissions; Director, Office of External Affairs; Placement Officer; Administrative Librarian; Shipboard Training Assistant; three Academy Training Representatives; and one Education Program Assistant.

Section 213.3195 Federal Emergency Management Agency

(a) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort.

(b) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority.

(c) Not to exceed 350 professional and technical positions at grades GS-5 through GS-15, or equivalent, in Mobile Emergency Response Support Detachments (MERS).

Section 213.3199 Temporary Organizations

Positions on the staffs of temporary organizations, as defined in 5 U.S.C. 3161(a). Appointments may not exceed 3 years, but temporary organizations may extend the appointments for 2 additional years if the conditions for extension are related to the completion of the study or project.

Schedule B

Section 213.3202 Entire Executive Civil Service

(a) Student Educational Employment Program—Student Temporary Employment Program.

(1) Students may be appointed to the Student Temporary Employment Program if they are pursuing any of the following educational programs:

(i) High School Diploma or General Equivalency Diploma (GED);

(ii) Vocational/Technical certificate;

(iii) Associate degree;

(iv) Baccalaureate degree;

(v) Graduate degree; or

(vi) Professional degree

* * * * *

[The remaining text of provisions pertaining to the Student Temporary Employment Program can be found in 5 CFR 213.3202(a).]

(b) Student Educational Employment Program—Student Career Experience Program.

(1)(i) Students may be appointed to the Student Career Experience Program if they are pursuing any of the following educational programs:

(A) High school diploma or General Equivalency Diploma (GED);

(B) Vocational/Technical certificate;

(C) Associate degree;

(D) Baccalaureate degree;

(E) Graduate degree; or

(F) Professional degree.

(ii) Student participants in the Harry S. Truman Foundation Scholarship Program under the provision of Public Law 93-842 are eligible for appointments under the Student Career Experience Program.

* * * * *

[The remaining text of provisions pertaining to the Student Career Experience Program can be found in 5 CFR 213.3202(b).]

(c)-(i) (Reserved).

(j) Special executive development positions established in connection with Senior Executive Service candidate development programs which have been approved by OPM. A Federal agency may make new appointments under this authority for any period of employment not exceeding 3 years for one individual.

(k)-(l) (Reserved).

(m) Positions when filled under any of the following conditions:

(1) Appointment at grades GS-15 and above, or equivalent, in the same or a different agency without a break in service from a career appointment in the Senior Executive Service (SES) of an individual who:

(i) Has completed the SES probationary period;

(ii) Has been removed from the SES because of less than fully successful executive performance, or a reduction in force; and

(iii) Is entitled to be placed in another civil service position under 5 U.S.C. 3594(b).

(2) Appointment in a different agency without a break in service of an individual originally appointed under paragraph (m)(1).

(3) Reassignment, promotion, or demotion within the same agency of an individual appointed under this authority.

(n) Positions when filled by preference eligibles or veterans who have been separated from the armed forces under honorable conditions after 3 years or more of continuous active service and who, in accordance with 5 U.S.C. 3304(f) (Pub. L. 105-339), applied for these positions under merit promotion procedures when applications were being accepted by the agency from individuals outside its own workforce. These veterans may be promoted, demoted, or reassigned, as appropriate, to other positions within the agency but would remain employed under this excepted authority as long as there is no break in service. No new appointments may be made under this authority after November 30, 1999.

(o) The Federal Career Intern Program—

(1) Appointments. Appointments made under the Federal Career Intern Program may not exceed 2 years, except as described in paragraph (o)(2) of this section. Initial appointments shall be made to a position at the grades GS-5, 7, or 9 (and equivalent) or other trainee levels appropriate for the Program. Agencies must request OPM approval to cover additional grades to meet unique or specialized needs. Agencies will use part 302 of this chapter when making appointments under this Program.

(2) Extensions.

(i) Agencies must request, in writing, OPM approval to extend internships for up to 1 additional year beyond the authorized 2 years for additional training and/or developmental activities.

* * * * *

[The remaining text of provisions pertaining to the Federal Career Intern Program can be found in 5 CFR 213.3202(o).]

Section 213.3203 Executive Office of the President

(a) (Reserved).

(b) Office of the Special Representative for Trade Negotiations.

(1) Seventeen positions of economist at grades GS-12 through GS-15.

Section 213.3204 Department of State

(a)(1) One non-permanent senior level position to serve as Science and Technology Advisor to the Secretary.

(b)-(c) (Reserved).

(d) Fourteen positions on the household staff of the President's Guest House (Blair and Blair-Lee Houses).

(e) (Reserved).

(f) Scientific, professional, and technical positions at grades GS-12 to GS-15 when filled by persons having special qualifications in foreign policy matters. Total employment under this authority may not exceed 4 years.

Section 213.3205 Department of the Treasury

(a) Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

(b-(c) (Reserved).

(d) Positions concerned with the protection of the life and safety of the President and members of his immediate family, or other persons for whom similar protective services are prescribed by law, when filled in accordance with special appointment procedures approved by OPM.

Service under this authority may not exceed:

(1) A total of 4 years; or

(2) 120 days following completion of the service required for conversion under Executive Order 11203, whichever comes first.

(e) Positions, grades GS-5 through 12, of Treasury Enforcement Agent in the Bureau of Alcohol, Tobacco, and Firearms; and Treasury Enforcement Agent, Pilot, Marine Enforcement Officer, and Aviation Enforcement Officer in the U.S. Customs Service. Service under this authority may not exceed 3 years and 120 days.

Section 213.3206 Department of Defense

(a) Office of the Secretary.

(1) (Reserved).

(2) Professional positions at GS-11 through GS-15 involving systems, costs, and economic analysis functions in the Office of the Assistant Secretary (Program Analysis and Evaluation); and in the Office of the Deputy Assistant Secretary (Systems Policy and Information) in the Office of the Assistant Secretary (Comptroller).

(3)-(4) (Reserved).

(5) Four Net Assessment Analysts.

(b) Interdepartmental activities.

(1) Five positions to provide general administration, general art and information, photography, and/or visual information support to the White House Photographic Service.

(2) Eight positions, GS-15 or below, in the White House Military Office, providing support for airlift operations, special events, security, and/or administrative services to the Office of the President.

(c) National Defense University.

(1) Sixty-one positions of Professor, GS-13/15, for employment of any one individual on an initial appointment not to exceed 3 years, which may be renewed in any increment from 1 to 6 years indefinitely thereafter.

(d) General.

(1) One position of Law Enforcement Liaison Officer (Drugs), GS-301-15, U.S. European Command.

(2) Acquisition positions at grades GS-5 through GS-11, whose incumbents have successfully completed the required course of education as participants in the Department of Defense scholarship program authorized under 10 U.S.C. 1744.

(e) Office of the Inspector General.

(1) Positions of Criminal Investigator, GS-1811-5/15.

(f) Department of Defense Polygraph Institute, Fort McClellan, Alabama.

(1) One Director, GM-15.

(g) Defense Security Assistance Agency. All faculty members with instructor and research duties at the Defense Institute of Security Assistance Management, Wright Patterson Air Force Base, Dayton, Ohio. Individual appointments under this authority will be for an initial 3-year period, which may be followed by an appointment of indefinite duration.

Section 213.3207 Department of the Army

(a) U.S. Army Command and General Staff College.

(1) Seven positions of professors, instructors, and education specialists. Total employment of any individual under this authority may not exceed 4 years.

Section 213.3208 Department of the Navy

(a) Naval Underwater Systems Center, New London, Connecticut.

(1) One position of Oceanographer, grade GS-14, to function as project director and manager for research in the weapons systems applications of ocean eddies.

(b) All civilian faculty positions of professors, instructors, and teachers on the staff of the Armed Forces Staff College, Norfolk, Virginia.

(c) One Director and four Research Psychologists at the professor or GS-15 level in the Defense Personnel Security Research and Education Center.

(d) All civilian professor positions at the Marine Corps Command and Staff College.

(e) One position of Staff Assistant, GS-301, whose incumbent will manage the Navy's Executive Dining facilities at the Pentagon.

(f) One position of Housing Management Specialist, GM-1173-14, involved with the Bachelor Quarters Management Study. No new appointments may be made under this authority after February 29, 1992.

Section 213.3209 Department of the Air Force

(a) Not to exceed four interdisciplinary positions for the Air Research Institute at the Air University, Maxwell Air Force Base, Alabama, for employment to complete studies proposed by candidates and acceptable to the Air Force. Initial appointments are made not to exceed 3 years, with an option to renew or extend the appointments in increments of 1, 2, or 3 years indefinitely thereafter.

(b)-(c) (Reserved).

(d) Positions of Instructor or professional academic staff at the Air University, associated with courses of instruction of varying durations, for employment not to exceed 3 years, which may be renewed for an indefinite period thereafter.

(e) One position of Director of Development and Alumni Programs, GS-301-13, with the U.S. Air Force Academy, Colorado.

Section 213.3210 Department of Justice

(a) Criminal Investigator (Special Agent) positions in the Drug Enforcement Administration. New appointments may be made under this authority only at grades GS-5 through 11. Service under the authority may not exceed 4 years. Appointments made under this authority may be converted to career or career-conditional appointments under the provisions of Executive Order 12230, subject to conditions agreed upon between the Department and OPM.

(b) (Reserved).

(c) Not to exceed 400 positions at grades GS-5 through 15 assigned to regional task forces established to conduct special investigations to combat drug trafficking and organized crime.

(d) (Reserved).

(e) Positions, other than secretarial, GS-6 through GS-15, requiring knowledge of the bankruptcy process, on the staff of the offices of United States Trustees or the Executive Office for U.S. Trustees.

Section 213.3213 Department of Agriculture

(a) Foreign Agricultural Service.

(1) Positions of a project nature involved in international technical assistance activities. Service under this authority may not exceed 5 years on a single project for any individual unless delayed completion of a project justifies an extension up to but not exceeding 2 years.

(b) General.

(1) Temporary positions of professional Research Scientists, GS-15 or below, in the Agricultural Research Service, Economic Research Service, and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Human Resources Officer for the Research, Education, and Economics Mission Area, or the Human Resources Officer, Forest Service, Forest Service.

(2) Not to exceed 55 Executive Director positions, GM-301-14/15, with the State Rural Development Councils in support of the Presidential Rural Development Initiative.

Section 213.3214 Department of Commerce

(a) Bureau of the Census.

(1) (Reserved).

(2) Not to exceed 50 Community Services Specialist positions at the equivalent of GS-5 through GS-12.

(3) (Reserved).

(b)-(c) (Reserved).

(d) National Telecommunications and Information Administration.

(1) Not to exceed 10 positions of Telecommunications Policy Analysts, grades GS-11 through 15. Employment under this authority may not exceed 2 years.

Section 213.3215 Department of Labor

(a) Chair and a maximum of four additional Members, Administrative Review Board.

(b) (Reserved).

(c) Bureau of International Labor Affairs.

(1) Positions in the Office of Foreign Relations, which are paid by outside funding sources under contracts for specific international labor market technical assistance projects. Appointments under this authority may not be extended beyond the expiration date of the project.

Section 213.3217 Department of Education

(a) Seventy-five positions, not to exceed GS-13, of a professional or analytical nature when filled by persons, other than college faculty members or candidates working toward college degrees, who are participating in mid-career development programs authorized by Federal statute or regulation, or sponsored by private nonprofit organizations, when a period of work experience is a requirement for completion of an organized study program. Employment under this authority shall not exceed 1 year.

(b) Fifty positions, GS-7 through GS-11, concerned with advising on education policies, practices, and procedures under unusual and abnormal conditions. Persons employed under this provision must be bona fide elementary school and high school teachers. Appointments under this authority may be made for a period of not to exceed 1 year, and may, with the prior approval of the Office of Personnel Management, be extended for an additional period of 1 year.

Section 213.3227 Department of Veterans Affairs

(a) Not to exceed 800 principal investigatory, scientific, professional, and technical positions at grades GS-11 and above in the medical research program.

(b) Not to exceed 25 Criminal Investigator (Undercover) positions, GS-1811, in grades 5 through 12, conducting undercover investigations in the Veterans Health Administration supervised by the VA, Office of Inspector General. Initial appointments shall be greater than 1 year, but not to exceed 4 years and may be extended indefinitely in 1-year increments.

Section 213.3236 U.S. Soldiers' and Airmen's Home

(a) (Reserved).

(b) Director, Health Care Services; Director, Member Services; Director, Logistics; and Director, Plans and Programs.

Section 213.3240 National Archives and Records Administration

(a) Executive Director, National Historical Publications and Records Commission.

Section 213.3248 National Aeronautics and Space Administration

(a) Not to exceed 40 positions of Command Pilot, Pilot, and Mission Specialist candidates at grades GS-7 through 15 in the Space Shuttle Astronaut program. Employment under this authority may not exceed 3 years.

Section 213.3255 Social Security Administration

(a) Temporary and time-limited positions in the Ticket to Work and Work Incentives Advisory Panel. No employees may be appointed after November 17, 2007.

Section 213.3274 Smithsonian Institution

(a) (Reserved).

(b) Freer Gallery of Art.

(1) Not to exceed four positions of Oriental Art Restoration Specialist at grades GS-9 through GS-15.

Section 213.3276 Appalachian Regional Commission

(a) Two Program Coordinators.

Section 213.3278 Armed Forces Retirement Home

(a) Naval Home, Gulfport, Mississippi.

(1) One Resource Management Officer position and one Public Works Officer position, GS/GM-15 and below.

Section 213.3282 National Foundation on the Arts and the Humanities

(a) (Reserved).

(b) National Endowment for the Humanities.

(1) Professional positions at grades GS-11 through GS-15 engaged in the review, evaluation, and administration of grants supporting scholarship, education, and public programs in the humanities, the duties of which require in-depth knowledge of a discipline of the humanities.

Section 213.3291 Office of Personnel Management

(a) Not to exceed eight positions of Associate Director at the Executive Seminar Centers at grades GS-13 and GS-14. Appointments may be made for any period up to 3 years and may be extended without prior approval for any individual. Not more than half of the authorized faculty positions at any one Executive Seminar Center may be filled under this authority.

(b) Twelve positions of faculty members at grades GS-13 through 15, at the Federal Executive Institute. Initial appointments under this authority may be made for any period up to 3 years and may be extended in 1-, 2-, or 3-year increments indefinitely thereafter.

Schedule C

Section 213.3303 Executive Office of the President

Council on Economic Advisors

CEGS60001 Confidential Assistant to the Chairman, Council of Economic Advisers

CEGS60004 Confidential Assistant to the Chairman, Council of Economic Advisers

CEGS60005 Administrative Operations Assistant to the Member (Council for Economic Advisers)

Council on Environmental Quality

EQGS00018 Associate Director for Congressional Affairs to the Chairman (Council on Environmental Quality)

EQGS60019 Associate Director for Agriculture, Lands and Wildlife to the Chairman (Council on Environmental Quality)

Office of Management and Budget

BOGS00039 Legislative Analyst to the Associate Director for Legislative Affairs

BOGS00151 Deputy Press Secretary to the Press Secretary

BOGS00152 Portfolio Manager to the Administrator, E-Government and Information Technology

BOGS60011 Deputy General Counsel to the General Counsel

BOGS60026 Confidential Assistant to the Associate Director for General Government Programs

BOGS60027 Confidential Assistant to the Administrator, Office of Information and Regulatory Affairs

BOGS60035 Confidential Assistant to the Counselor to the Deputy Director for Management

BOGS60141 Deputy to the Associate Director for Legislative Affairs (Senate) to the Executive Associate Director

BOGS60153 Confidential Assistant to the Associate Director for National Security Programs

BOGS60155 Special Assistant to the Director Office of Management and Budget

BOGS60157 Confidential Assistant to the Administrator, E-Government and Information Technology

BOGS60158 Special Assistant to the Director Office of Management and Budget

BOGS60906 Special Assistant to the Deputy Director for Management to the Deputy Director for Management

BOGS60907 Confidential Assistant to the Associate Director for Natural Resource Programs

BOGS70001 Associate General Counsel to the General Counsel and Senior Policy Advisor

BOGS70002 Press Secretary to the Associate Director for Communications

BOGS70004 Special Assistant and Counselor to the Controller, Office of Federal Financial Management

BOGS70005 Confidential Assistant to the Associate Director for Legislative Affairs

BOGS70007 Press Assistant to the Associate Director for Communications

BOGS70008 Deputy to the Associate Director for Legislative Affairs House)

BOGS70009 Confidential Assistant to the Deputy Director for Management

BOGS70010 Confidential Assistant to the Deputy Director Office of Management and Budget

Office of National Drug Control Policy

QQGS00028 White House Liaison and Intergovernmental Affairs Specialist to the Chief of Staff

QQGS00035 Policy Analyst and Intergovernmental Affairs Liaison to the Associate Deputy Director, State and Local Affairs

QQGS60089 Associate Director Office of Legislative Affairs to the Chief of Staff

QQGS60093 Special Assistant to the Associate Director Office of Legislative Affairs

QQGS60094 Policy Analyst to the Associate Deputy Director, State and Local Affairs

QQGS60095 Confidential Assistant to the Associate Director Office of Legislative Affairs

QQGS60097 Public Affairs Specialist to the Counselor to the Deputy Director

QQGS60098 Special Assistant to the Associate Director for Legislative Affairs

QQGS60099 Project Manager to the Deputy Director for Demand Reduction

QQGS60100 Confidential Assistant to the Deputy Chief of Staff

QQGS70000 Special Assistant to the Deputy Director for Demand Reduction

QQGS70001 Public Affairs Specialist to the Associate Director for Public Affairs

QQGS70002 Confidential Assistant to the Associate Director for Public Affairs

QQGS70003 Deputy Chief of Staff

QQGS70004 Public Affairs Specialist (Media Campaign) to the Associate Director for Public Affairs

QQGS70005 Confidential Assistant to the Deputy Director for Supply Reduction

QQGS70006 Counselor to the Deputy Director for Demand Reduction

QQGS70009 Special Assistant to the Director to the Chief of Staff

QQGS70010 Legislative Analyst to the Associate Director Office of Legislative Affairs

QQGS70011 Confidential Assistant to the Director

Office of the United States Trade Representative

TNGS00019 Confidential Assistant to the Deputy United States Trade Representative

TNGS60023 Public Affairs Specialist to the Assistant U.S. Trade Representative for Public and Media Affairs

TNGS60024 Director of Scheduling and Advance to the United States Trade Representative

TNGS60025 Deputy Assistant United States Trade Representative for Congressional Affairs to the Assistant United States Trade Representative for Congressional Affairs

TNGS60048 Staff Assistant to the Chief of Staff

TNGS70001 Confidential Assistant to the Chief of Staff

TNGS70002 Special Assistant to Deputy United States Representative

TNGS70003 Confidential Assistant to the Deputy United States Trade Representative

Official Residence of the Vice President

RVGS00005 Deputy Social Secretary and Residence Manager to the Assistant to the Vice President and Deputy Chief of Staff

Office of Science and Technology Policy

TSGS60042 Deputy to the Associate Director, Technology

TSGS60043 Program Management Specialist to the Chief of Staff and General Counsel

TSGS60044 Assistant to the Director for Communications and Public Affairs to the Chief of Staff and General Counsel

TSGS60045 Assistant to the Director for Legislative Affairs to the Chief of Staff and General Counsel

TSGS60046 Assistant Director for Telecommunications and Information Technology to the Chief of Staff and General Counsel

TSGS60047 Deputy Chief of Staff and Associate General Counsel to the Chief of Staff and General Counsel

Section 213.3304 Department of State

DSGS60152 Supervisory Foreign Affairs Officer to the Under Secretary for Global Affairs

DSGS60156 Confidential Assistant to the Secretary of State

DSGS60194 Senior Advisor to the Under Secretary for Arms Control and Security Affairs

DSGS60201 Staff Assistant to the Under Secretary for Global Affairs

DSGS60267 Foreign Affairs Officer to the Principal Deputy Assistant Secretary

DSGS60389 Senior Advisor to the Assistant Secretary, Bureau of Educational and Cultural Affairs

DSGS60394 Legislative Management Officer to the Assistant Secretary for Legislative and Intergovernmental Affairs

DSGS60395 Director, Art in Embassies Program to the Deputy Assistant Secretary

DSGS60417 Supervisory Foreign Affairs Officer to the Under Secretary for Global Affairs

DSGS60567 Senior Advisor to the Assistant Secretary for Near Eastern and South Asian Affairs

DSGS60723 Senior Advisor to the Assistant Secretary for Western Hemispheric Affairs

DSGS60724 Special Assistant to the Director Office Resource Management Office of Foreign Buildings Operations

DSGS60734 Public Affairs Specialist to the Assistant Secretary for Public Affairs

DSGS60749 Special Assistant to the Deputy Assistant Secretary

DSGS60762 Special Assistant to the Assistant Secretary for Public Affairs

DSGS60763 Senior Advisor to the Assistant Secretary for Western Hemispheric Affairs

DSGS60765 Public Affairs Specialist to the Assistant Secretary for Public Affairs

DSGS60769 Special Assistant to the Under Secretary for Management

DSGS60771 Coordinator for Intergovernmental Affairs to the Assistant Secretary for Public Affairs

DSGS60773 Special Assistant to the Assistant Secretary, Bureau of Verification, Compliance and Verification

DSGS60774 Special Assistant to the Coordinator, Office of the Secretary

DSGS60778 Foreign Affairs Officer to the Assistant Secretary for Near Eastern and South Asian Affairs

DSGS60782 Special Assistant to the Assistant Secretary for Western Affairs to the Assistant Secretary for African Affairs

DSGS60793 Chief, Voluntary Visitors Division to the Assistant Secretary, Bureau of Educational and Cultural Affairs

DSGS60795 Member, Policy Planning Staff to the Director, Policy Planning Staff

DSGS60817 Legislative Management Officer to the Assistant Secretary for Legislative and Intergovernmental Affairs

DSGS60947 Staff Assistant (Visits) to the Supervisory Protocol Officer (Visits)

DSGS60950 Foreign Affairs Officer to the Assistant Secretary for Western Hemispheric Affairs

DSGS60951 Congressional Affairs Manager to the Assistant Secretary for International Organizational Affairs

DSGS60965 Foreign Affairs Officer to the Deputy Assistant Secretary

DSGS60971 Public Affairs Specialist to the Assistant Secretary for Public Affairs

DSGS60973 Chief of Staff to the Director, Policy Planning Staff

DSGS60978 Director, New Partner Outreach to the HIV/AIDS Coordinator

DSGS60984 Special Assistant to the Senior Advisor to the Secretary and White House Liaison

DSGS60986 Senior Advisor to the Under Secretary for Public Diplomacy and Public Affairs

DSGS60990 Senior Advisor to the Assistant Secretary for Near Eastern and South Asian Affairs

DSGS60994 Senior Advisor to the Under Secretary for Management

DSGS61000 Senior Advisor to the Assistant Secretary for Near Eastern and South Asian Affairs

DSGS61005 Legislative Management Officer to the Assistant Secretary for Legislative and Intergovernmental Affairs

DSGS61006 Legislative Management Officer to the Assistant Secretary for Legislative and Intergovernmental Affairs

DSGS61011 Special Assistant to the Assistant Secretary for African Affairs

DSGS61013 Senior Advisor to the Assistant Secretary

DSGS61014 Assistant Manager, President's Guest House to the Deputy Chief of Protocol

DSGS61019 Senior Advisor to the Under Secretary for Global Affairs

DSGS61022 Special Assistant to the Deputy Assistant Secretary

DSGS61023 Senior Advisor to the Assistant Secretary for Near Eastern and South Asian Affairs

DSGS61026 Special Assistant to the Under Secretary for Public Diplomacy and Public Affairs

DSGS61038 Special Assistant to the Chief of Protocol

DSGS61042 Foreign Affairs Officer to the Assistant Secretary for International Organizational Affairs

DSGS61043 Coordinator for Intergovernmental Affairs to the Deputy Assistant Secretary

DSGS61045 Special Assistant to the Assistant Secretary for Democracy Human Rights and Labor

DSGS61047 Legislative Management Officer to the Assistant Secretary for Legislative and Intergovernmental Affairs

DSGS61052 Special Assistant to the HIV/Aids Coordinator

DSGS61061 Protocol Officer (Gifts) to the Chief of Protocol

DSGS61071 Public Affairs Specialist to the Assistant Secretary for Public Affairs

DSGS61077 Special Assistant to the Coordinator for Counter-Terrorism

DSGS61078 Senior Advisor to the Assistant Secretary for Western Hemispheric Affairs

DSGS61081 Foreign Affairs Officer to the Director

DSGS61083 Public Affairs Specialist to the Assistant Secretary for Public Affairs

DSGS61084 Staff Assistant to the Director, Policy Planning Staff

DSGS61085 Senior Advisor to the Assistant Secretary, Bureau of Educational and Cultural Affairs

DSGS61087 Legislative Management Officer to the Assistant Secretary for Legislative and Intergovernmental Affairs

DSGS61088 Special Assistant to the Chief Financial Officer

DSGS61089 Supervisory Protocol Officer (Visits) to the Chief of Protocol

DSGS61091 Special Assistant to the Under Secretary for Public Diplomacy and Public Affairs

DSGS61092 Special Assistant to the Under Secretary for Public Diplomacy and Public Affairs

DSGS61093 Public Affairs Officer to the Chief of Protocol

DSGS61094 Special Assistant to the Under Secretary for Public Diplomacy and Public Affairs

DSGS61095 Special Assistant to the Deputy Assistant Secretary

DSGS61096 Senior Advisor to the Director, Policy Planning Staff

DSGS61097 Foreign Affairs Officer (Ceremonials) to the Chief of Protocol

DSGS61098 Legislative Analyst to the Assistant Secretary for Legislative and Intergovernmental Affairs

DSGS61099 Special Assistant to the Chief of Staff

DSGS61102 Special Assistant to the Senior Advisor to the Secretary and White House Liaison

DSGS61103 Staff Assistant to the Under Secretary for Arms Control and Security Affairs

DSGS61104 Special Assistant to the Director, Policy Planning Staff

DSGS61105 Senior Advisor to the Ambassador-At-Large (War Crimes)

DSGS61106 Staff Assistant to the Assistant Secretary for Economic and Business Affairs

DSGS61108 Special Assistant to the Under Secretary for Global Affairs

DSGS61109 Public Affairs Specialist to the Assistant Secretary for Western Hemispheric Affairs

DSGS61110 Special Assistant to the Assistant Secretary for East Asian and Pacific Affairs

DSGS61111 Legislative Management Officer to the Assistant Secretary for Legislative and Intergovernmental Affairs

DSGS61112 Senior Advisor to the Assistant Secretary for International Organizational Affairs

DSGS61114 Staff Assistant to the Under Secretary for Arms Control and Security Affairs

DSGS61115 Foreign Affairs Officer to the Assistant Secretary for International Organizational Affairs

DSGS61116 Special Assistant to the Deputy Assistant Secretary

DSGS61118 Senior Advisor to the Assistant Secretary for Western Hemispheric Affairs

DSGS61119 Staff Assistant to the Assistant Secretary for International Organizational Affairs

DSGS61120 Staff Assistant to the Director, Office of International Visitors

DSGS61122 Public Affairs Specialist (Speechwriter) to the Assistant Secretary for European Affairs

DSGS61123 Staff Assistant to the Assistant Secretary for Western Hemispheric Affairs

DSGS61125 Protocol Officer (Visits) to the Chief of Protocol

DSGS61126 Staff Assistant to the Director, Policy Planning Staff

DSGS61127 Special Assistant to the Assistant Secretary for International Organizational Affairs

DSGS61128 Special Assistant to the Under Secretary for Global Affairs

DSGS61190 Staff Assistant to the Under Secretary for International Security Affairs

DSGS61191 Staff Assistant to the Assistant Secretary Bureau of International Narcotics and Law Enforcement Affairs

DSGS61192 Staff Assistant to the Assistant Secretary Bureau of International Narcotics and Law Enforcement Affairs

DSGS61193 Legislative Management Officer to the Assistant Secretary for Legislative and Intergovernmental Affairs

DSGS61194 Director to the Assistant Secretary for Democracy Human Rights and Labor

DSGS61195 Writer-Editor to the Assistant Secretary Bureau of Political-Military Affairs

DSGS61196 Special Assistant to the Under Secretary for Arms Control and Security Affairs

SGS61197 Assistant Chief of Protocol to the Chief of Protocol

DSGS61198 Director of Communications to the HIV/Aids Coordinator

DSGS61199 Legislative Management Officer to the Assistant Secretary for Legislative and Intergovernmental Affairs

DSGS61200 Staff Assistant to the Under Secretary for Public Diplomacy and Public Affairs

DSGS61201 Public Affairs Specialist to the Assistant Secretary Oceans, International Environment and Science Affairs

DSGS61203 Special Assistant to the Deputy Assistant Secretary

DSGS61205 Protocol Officer (Visits) to the Chief of Protocol

DSGS61207 Special Assistant (Senior Advisor) to the Assistant Secretary for Democracy Human Rights and Labor

DSGS61208 Legislative Management Officer (Staff Director) to the Assistant Secretary for Legislative and Intergovernmental Affairs

DSGS61209 Staff Assistant to the Ambassador-At-Large (War Crimes)

DSGS61211 Protocol Officer (Visits) to the Chief of Protocol

DSGS61212 Special Assistant to the Women's Human Rights Coordinator

DSGS61214 Staff Assistant to the Director, Policy Planning Staff

DSGS61217 Public Affairs Specialist to the Assistant Secretary for Public Affairs

DSGS61218 Public Affairs Specialist to the Assistant Secretary for Public Affairs

DSGS61219 Foreign Affairs Officer to the Assistant Secretary, Bureau of Verification, Compliance and Implementation

DSGS61220 Senior Advisor to the Assistant Secretary Oceans, International Environment and Science Affairs

DSGS61221 Senior Advisor to the Assistant Secretary for Economic and Business Affairs

DSGS61222 Special Assistant to the Principal Deputy Assistant Secretary, Bureau International Narcotics and Law Enforcement Affairs

DSGS61223 Special Assistant to the Assistant Secretary for Public Affairs

DSGS61226 Staff Assistant to the Assistant Secretary for Public Affairs

DSGS61228 Special Assistant to the Assistant Secretary, Bureau of Educational and Cultural Affairs

DSGS61229 Protocol Assistant to the Deputy Chief of Protocol

DSGS61230 Staff Assistant to the Assistant Secretary, Bureau of Educational and Cultural Affairs

DSGS61231 Special Assistant to the Assistant Secretary for Near Eastern and South Asian Affairs

DSGS61233 Foreign Affairs Officer to the Assistant Secretary for Western Hemispheric Affairs

DSGS61235 Public Affairs Specialist to the Assistant Secretary for Public Affairs

DSGS61237 Deputy Chief of Staff to the Secretary of State

DSGS61300 Staff Assistant to the Under Secretary for Management

DSGS69721 Staff Assistant to the Director, Policy Planning Staff

DSGS69722 Senior Advisor to the Assistant Secretary for Democracy Human Rights and Labor

Section 213.3305 Department of the Treasury

DYGS00230 Public Affairs Specialist to the Director, Public Affairs

DYGS00250 Director, Public Affairs to the Deputy Assistant Secretary for Public Affairs

DYGS00356 Director, Critical Infrastructure Protection and Compliance Policy to the Deputy Assistant Secretary (Critical Infrastructure Protection and Compliance Policy)

DYGS00375 Director of Legislative and Governmental Affairs to the Director of the Mint

DYGS00380 Deputy to the Assistant Secretary (Legislative Affairs) to the Assistant Secretary (Deputy Under Secretary) for Legislative Affairs

DYGS00407 Senior Advisor to the Assistant Secretary for Financial Markets

DYGS00424 Senior Advisor to the Assistant Secretary (Economic Policy)

DYGS00429 Executive Assistant to the Secretary

DYGS00430 Senior Advisor to the Under Secretary for Domestic Finance

DYGS00441 Director of Outreach to the Deputy Assistant Secretary Financial Education)

DYGS00453 Media Coordinator to the Assistant Secretary (Public Affairs) and Director of Policy Planning

DYGS00455 Special Assistant to the Deputy Assistant Secretary (Financial Education)

DYGS00459 Special Assistant to Director of Legislative and Intergovernmental Affairs

DYGS00460 Senior Advisor and Chief of Staff to the Under Secretary for Terrorism and Financial Crimes

DYGS00464 Special Assistant to the Assistant Secretary (Deputy Under Secretary) for Legislative Affairs

DYGS00467 Deputy White House Liaison to the White House Liaison

DYGS00468 Public Affairs Specialist to the Director, Public Affairs

DYGS00471 Public and Legislative Affairs Manager to the Director Community Development Financial Institutions

DYGS00473 Director of Protocol to the Assistant Secretary (Management) and Chief Financial Officer

DYGS00474 Scheduler to the Chief of Staff

DYGS00476 Director of Operations to the Chief of Staff

DYGS00478 Senior Writer to the Treasurer of the United States

DYGS00479 Speechwriter to the Senior Speechwriter

DYGS00480 Policy Advisor to the Assistant Secretary (Public Affairs) and Director of Policy Planning

DYGS00481 Senior Counselor to the Assistant Secretary (Terrorist Financing)

DYGS00482 Deputy Executive Secretary to the Executive Secretary

DYGS00483 Senior Advisor to the Assistant Secretary (Terrorist Financing)

DYGS00484 Executive Secretary Officer to the Executive Secretary

DYGS00485 Executive Secretary Officer to the Executive Secretary

DYGS00486 Special Assistant for Advance to the Director of Scheduling

DYGS00487 Deputy Executive Secretary to the Executive Secretary

DYGS00488 Executive Assistant to the Special Envoy for China and the Strategic Economic Dialogue

DYGS00489 Operations Coordinator to the Director of Operations

DYGS00490 Special Advisor to the Special Envoy for China and the Strategic Economic Dialogue

DYGS00491 Senior Advisor to the Assistant Secretary (Deputy Under Secretary) International Affairs

DYGS00492 Special Advisor (Legislative Affairs) to the Assistant Secretary (Deputy Under Secretary) for Legislative Affairs

DYGS00493 Executive Secretary Officer to the Executive Secretary

DYGS00494 Special Assistant to the Director of the Mint

DYGS00495 Associate Director of Operations for Advance to the Director of Operations

DYGS00496 Special Advisor for Business Affairs and Public Liaison to the Deputy Assistant Secretary for Business Affairs and Public Liaison

DYGS00844 Public Affairs Specialist to the Director, Public Affairs

DYGS60277 Senior Speechwriter to the Assistant Secretary (Public Affairs) and Director of Policy Planning

DYGS60307 Senior Advisor to the Treasurer of the United States

DYGS60351 Senior Advisor to the Assistant Secretary (Public Affairs) and Director of Policy Planning

DYGS60381 Special Assistant to the Assistant Secretary (Deputy Under Secretary) for Legislative Affairs

DYGS60391 Deputy Scheduler to the Chief of Staff

DYGS60395 Deputy Executive Secretary to the Executive Secretary

DYGS60396 Senior Advisor to the Deputy Assistant Secretary for Business Affairs and Public Liaison

DYGS60401 Special Assistant for Advance to the Director of Scheduling

DYGS60404 Senior Advisor to the Assistant Secretary (Financial Institutions)

DYGS60414 Executive Assistant to the Deputy Secretary of the Treasury

DYGS60421 Special Assistant to the Deputy Assistant Secretary for Legislative Affairs

Section 213.3306 Department of Defense

DDGS00673 Staff Assistant to the Deputy Under Secretary of Defense (Near East/South Asian Affairs)

DDGS00682 Staff Assistant to the Deputy Assistant Secretary of Defense (Asia and Pacific)

DDGS00714 Special Assistant to the Under Secretary of Defense (Policy)

DDGS00771 Staff Assistant to the Principal Deputy Assistant Secretary of Defense (International Security Affairs)

DDGS00779 Staff Assistant to the Principal Deputy Assistant Secretary of Defense (International Security Affairs)

DDGS16660 Director of Assessments to the Deputy Under Secretary of Defense (International Technology Security)

DDGS16692 Confidential Assistant to the Secretary of Defense

DDGS16709 Defense Fellow to the Special Assistant to the Secretary of Defense for White House Liaison

DDGS16796 Staff Assistant to the Deputy Assistant Secretary of Defense (Forces Policy)

DDGS16811 Special Assistant to the Director, Small Business Programs

DDGS16823 Public Affairs Specialist to the Deputy Assistant Secretary of Defense (Strategic Communications Planning)

DDGS16836 Defense Fellow to the Special Assistant to the Secretary of Defense for White House Liaison

DDGS16839 Supervisory Public Affairs Specialist to the Deputy Assistant Secretary of Defense (Internal Communications)

DDGS16874 Confidential Assistant to the Assistant Secretary of Defense (Reserve Affairs)

DDGS16888 Staff Assistant to the Deputy Assistant Secretary of Defense (Eurasia)

DDGS16890 Special Assistant, DUSD (Budget and Appropriations Affairs) to the Deputy Under Secretary of Defense (Resource Planning/Management)

DDGS16908 Civilian Executive Assistant to the Special Assistant to the Secretary of Defense for White House Liaison

DDGS16909 Staff Assistant to the Special Assistant to the Secretary of Defense for White House Liaison

DDGS16913 Defense Fellow to the Special Assistant to the Secretary of Defense for White House Liaison

DDGS16914 Personal and Confidential Assistant to the Deputy Secretary of Defense

DDGS16915 Special Assistant to the Principal Deputy Assistant Secretary of Defense (Legal Affairs)

DDGS16917 Confidential Assistant to the Director of Defense Research and Engineering

DDGS16918 Staff Assistant to the Deputy Assistant Secretary of Defense (Negotiations Policy)

DDGS16920 Staff Assistant to the Deputy Assistant Secretary of Defense (Negotiations Policy)

DDGS16929 Assistant for Research, Analysis and Special Projects to the Special Assistant to the Secretary and Deputy Secretary of Defense

DDGS16933 Special Assistant to the Deputy Under Secretary of Defense (Acquisition and Technology)

DDGS16940 Research Assistant to the Speechwriter

DDGS16941 Special Assistant to the Principal Deputy Assistant Secretary of Defense (Legal Affairs)

DDGS16942 Staff Assistant to the Deputy Assistant Secretary of Defense (Negotiations Policy)

DDGS16948 Special Assistant to the Principal Deputy Under Secretary of Defense (Comptroller)

DDGS16949 Defense Fellow to the Special Assistant to the Secretary of Defense for White House Liaison

DDGS16958 Confidential Assistant to the Principal Deputy Assistant Secretary of Defense for Public Affairs

DDGS16959 Special Assistant to the Principal Deputy Assistant Secretary of Defense (Legal Affairs)

DDGS16962 Speechwriter to the Principal Deputy Assistant Secretary of Defense for Public Affairs

DDGS16963 Protocol Specialist to the Special Assistant to the Secretary of Defense for Protocol

DDGS16965 Defense Fellow to the Special Assistant to the Secretary of Defense for White House Liaison

DDGS16970 Special Assistant to the Principal Deputy Assistant Secretary of Defense (Legal Affairs)

DDGS16971 Staff Assistant to the Deputy Assistant Secretary of Defense (Detainee Affairs)

DDGS16972 Staff Assistant to the Assistant Secretary of Defense (Special Operations/Low Intensity Conflict and Interdependent Capabilities)

DDGS16979 Personal and Confidential Assistant to the General Counsel

DDGS16980 Personal and Confidential Assistant to the Assistant Secretary of Defense (International Secretary Policy)

DDGS16982 Staff Specialist to the Deputy Assistant Secretary of Defense for Strategy, Plans and Resources

DDGS16983 Defense Fellow to the Special Assistant to the Secretary of Defense for White House Liaison

DDGS16984 Defense Fellow to the Special Assistant to the Secretary of Defense for White House Liaison

DDGS16985 Speechwriter to the Principal Deputy Assistant Secretary of Defense for Public Affairs

DDGS16987 Public Affairs Specialist to the Principal Deputy Assistant Secretary of Defense for Public Affairs

DDGS16988 Executive Assistant to the Director, Operational Test and Evaluation

DDGS16991 Confidential Assistant to the Under Secretary of Defense (Comptroller)

DDGS16993 Deputy, White House Liaison Office to the Special Assistant to the Secretary of Defense for White House Liaison

DDGS16995 Special Assistant to the Under Secretary of Defense (Acquisition, Technology, and Logistics)

DDGS16996 Special Assistant to the Principal Deputy Assistant Secretary of Defense (Legal Affairs)

DDGS16998 Staff Assistant to the Special Assistant to the Secretary of Defense for White House Liaison

DDGS16999 Personal and Confidential Assistant to the Assistant Secretary of Defense (International Security Affairs)

DDGS17000 Special Assistant to the Deputy Under Secretary of Defense (International Technology Security)

DDGS17001 Speechwriter to the Assistant Secretary of Defense Public Affairs

DDGS17002 Confidential Assistant to the Under Secretary of Defense Personnel and Readiness to the Under Secretary of Defense (Personnel and Readiness)

DDGS17004 Speechwriter to the Principal Deputy Assistant Secretary of Defense for Public Affairs

DDGS17008 Special Events Coordinator to the Assistant Secretary of Defense Public Affairs

DDGS17010 Public Affairs Specialist to the Assistant Secretary of Defense Public Affairs

DDGS17012 Public Affairs Specialist to the Assistant Secretary of Defense Public Affairs

DDGS17013 Public Affairs Specialist to the Assistant Secretary of Defense Public Affairs

DDGS17015 Staff Assistant to the Deputy Assistant Secretary of Defense (Detainee Affairs)

DDGS17016 Defense Fellow to the Special Assistant to the Secretary of Defense for White House Liaison

DDGS17017 Defense Fellow to the Special Assistant to the Secretary of Defense for White House Liaison

DDGS17019 Defense Fellow to the Special Assistant to the Secretary of Defense for White House Liaison

DDGS17021 Public Affairs Analyst to the Assistant Secretary of Defense Public Affairs

DDGS17022 Public Affairs Specialist to the Assistant Secretary of Defense Public Affairs

DDGS17023 Public Affairs Specialist to the Assistant Secretary of Defense Public Affairs

DDGS17024 Public Affairs Specialist to the Assistant Secretary of Defense Public Affairs

DDGS17025 Staff Specialist to the Under Secretary of Defense (Acquisition, Technology, and Logistics)

DDGS17026 Special Assistant to the Assistant Secretary of Defense (Legislative Affairs)

DDGS17027 Special Assistant to the Assistant Secretary of Defense (Legislative Affairs)

DDGS17028 Staff Assistant to the Special Assistant to the Secretary of Defense for White House Liaison

DDGS17029 Administrative Assistant to the Special Assistant to the Secretary of Defense for White House Liaison

DDGS17030 Staff Assistant to the Deputy Assistant Secretary of Defense (North Atlantic Treaty Organization and Europe)

DDGS17031 Special Assistant to the Deputy Under Secretary of Defense (Asian and Pacific Security Affairs)

DDGS17032 Special Assistant to the Assistant Secretary of Defense (Legislative Affairs)

DDGS17033 New Media Development Account Assistant to the Assistant Secretary of Defense Public Affairs

DDGS17034 Administrative Assistant to the Director, Department of Defense Office of Legislative Counsel

DDGS17035 Staff Assistant to the Deputy Assistant Secretary of Defense (Near East and South Asian Affairs)

DDGS17036 Public Affairs Specialist to the Assistant Secretary of Defense Public Affairs

DDGS17038 Special Assistant to the Assistant Secretary of Defense (Legislative Affairs)

DDGS17039 Confidential Assistant to the Secretary of Defense

DDGS17040 Defense Fellow to the Special Assistant to the Secretary of Defense for White House Liaison

DDGS17041 Special Assistant to the Assistant Secretary of Defense (Legislative Affairs)

DDGS17043 Special Assistant to the Under Secretary of Defense (Comptroller)

DDGS17044 Special Assistant to the Under Secretary of Defense (Comptroller)

DDGS17046 Public Affairs Analyst to the Assistant Secretary of Defense Public Affairs

DDGS17047 Special Assistant to the Assistant Secretary of Defense (Legislative Affairs)

DDGS17048 Staff Assistant to the Principal Deputy Under Secretary of Defense for Policy

DDGS17049 Confidential Assistant to the Deputy Under Secretary of Defense (Acquisition and Technology)

DDGS60033 Personal Secretary to the Deputy Secretary of Defense

DDGS60312 Director, Cooperative Threat Reduction to the Assistant Secretary of Defense (International Secretary Policy)

DDGS60314 Coordinator of Reserve Integration to the Principal Deputy Assistant Secretary of Defense (Reserve Affairs)

DDGS60319 Confidential Assistant to the Deputy Secretary of Defense

DDGS60368 Personal and Confidential Assistant to the Assistant Secretary of Defense (Legislative Affairs)

DDGS60369 Executive Assistant to the Director of Force Transformation

DDGS60454 Special Assistant to the Director of Net Assessment

DDGS60475 Staff Assistant to the Deputy Assistant Secretary of Defense (Forces Policy)

DDGS60520 Special Assistant to the Deputy Assistant Secretary 0f Defense (Prisoners of War/Military Police) Director, Prisoners of War Missing Persons Office

Section 213.3307 Department of the Army

DWGS00065 Special Assistant to the Deputy Assistant Secretary of the Army for Privatization and Partnerships (I and E)

DWGS00077 Confidential Assistant to the Assistant Secretary of the Army (Civil Works)

DWGS60002 Special Assistant to the Secretary of the Army

DWGS60016 Confidential Assistant to the Secretary of the Army

DWGS60019 Business Transformation Initiatives Analyst to the Special Assistant to the Secretary of Army for Business Transformation Initiatives

DWGS60021 Special Assistant to the Assistant Secretary of Army (Installations and Environment)

DWGS60022 Personal and Confidential Assistant to the Executive Director, Strategy and Performance Planning

DWGS60024 Personal and Confidential Assistant to the Under Secretary of the Army

DWGS60028 Personal and Confidential Assistant to the Assistant Secretary of the Army (Installations and Environment)

DWGS60029 Special Assistant to the Army General Counsel

DWGS60030 Confidential Assistant to the Deputy Under Secretary of the Army

DWGS60031 Personal and Confidential Assistant to the General Counsel

DWGS60032 Special Assistant to the Deputy Assistant Secretary of the Army (Environment, Safety and Occupational Health) to the General Counsel

DWGS60033 Special Assistant to the Army General Counsel

DWGS60076 Special Assistant to the Assistant Secretary of the Army (Civil Works)

Section 213.3308 Department of the Navy

DNGS06113 Staff Assistant to the Secretary of the Navy

DNGS06413 Confidential Assistant to the Assistant Secretary of Navy (Installations and Environment)

DNGS06414 Staff Assistant to the Under Secretary of the Navy

DNGS07110 Confidential Assistant to the Deputy Assistant Secretary of the Navy (Littoral and Mine Warfare Systems)

DNGS07152 Confidential Assistant to the Assistant Secretary of the Navy (Research Development and Acquisition)

DNGS07166 Residence Manager and Social Secretary to the Vice President to the Secretary of the Navy

DNGS07194 Attorney Advisor (General) to the General Counsel

DNGS07259 Special Assistant to the Secretary of the Navy

DNGS60074 Confidential Staff Assistant to the Deputy Assistant Secretary of the Navy (Financial Management and Comptroller)

Section 213.3309 Department of the Air Force

DFGS00003 Secretary to the Principal Deputy Assistant Secretary (Financial Management)

DFGS01060 Special Assistant to the Principal Deputy Assistant Secretary (Financial Management)

DFGS07001 Special Assistant to the Assistant Secretary of the Air Force (Acquisition) for Industrial Relations

DFGS08001 Special Assistant to the Deputy Assistant Secretary (Force Management Integration)

DFGS60011 Personal and Confidential Assistant to the General Counsel

DFGS60013 Special Counsel and Special Assistant to the General Counsel

DFGS60019 Special Assistant to the Assistant Secretary (Installations, Environment and Logistics)

DFGS60046 Budget Analyst to the Assistant Secretary (Financial Management and Comptroller)

Section 213.3310 Department of Justice

DJGS00027 Counselor to the Assistant Attorney General Environment and Natural Resources

DJGS00028 Director of Congressional Affairs to the Administrator, Drug Enforcement Administration

DJGS00033 Counsel to the Assistant Attorney General

DJGS00039 Special Assistant to the Chairman

DJGS00043 Confidential Assistant to the Assistant Attorney General (Legislative Affairs)

DJGS00048 Congressional Liaison Specialist to the Administrator, Drug Enforcement Administration

DJGS00054 Counsel to the Assistant Attorney General (Legal Policy)

DJGS00062 Chief of Staff to the Administrator of Juvenile Justice and Delinquency Prevention

DJGS00064 Principal Deputy Director to the Associate Attorney General

DJGS00066 Special Assistant to the Assistant Attorney General for Administration

DJGS00067 Chief of Staff to the Assistant Attorney General, Office of Justice Programs

DJGS00076 Public Affairs Specialist to the United States Attorney, Texas, Western District

DJGS00085 Speech Writer to the Director, Office of Public Affairs

DJGS00105 Counsel to the Special Counsel

DJGS00108 Special Assistant to the Director

DJGS00110 Senior Counsel to the Director, Office of Public Affairs

DJGS00114 Special Assistant to the Attorney General

DJGS00117 Deputy Director, Office of Faith-Based and Community Initiatives to the Director, Office of Faith-Based and Community Initiatives

DJGS00118 Special Assistant to the Director

DJGS00121 Senior Counsel to the Assistant Attorney General

DJGS00124 Senior Counsel to the Director, Office of Public Affairs

DJGS00125 Special Assistant to the Assistant Attorney General

DJGS00127 Chief of Staff and Counsel to the Assistant Attorney General

DJGS00130 Counsel to the Assistant Attorney General

DJGS00145 Executive Assistant to the Solicitor General

DJGS00155 Speechwriter to the Director, Office of Public Affairs

DJGS00162 Counsel to the Assistant Attorney General

DJGS00177 Counsel to the Associate Attorney General

DJGS00183 Counsel to the Counselor and Chief of Staff

DJGS00185 Senior Counsel to the Deputy Attorney General

DJGS00187 Counsel to the Assistant Attorney General Civil Division

DJGS00201 Counselor to the Assistant Attorney General Criminal Division

DJGS00202 Counsel to the Assistant Attorney General Criminal Division

DJGS00203 Counsel to the Assistant Attorney General Criminal Division

DJGS00221 Chief of Staff to the Assistant Attorney General, Office of Justice Programs

DJGS00226 Senior Advisor to the Director of Justice Assistance to the Director, Bureau of Justice Assistance

DJGS00228 Counsel to the Chief of Staff

DJGS00231 Counsel to the Associate Attorney General

DJGS00237 Press Assistant to the Director, Office of Public Affairs

DJGS00238 Press Assistant to the Director, Office of Public Affairs

DJGS00244 Confidential Assistant to the Assistant Attorney General

DJGS00246 Counsel to the Assistant Attorney General Environment and Natural Resources

DJGS00252 Director of Advance to the Attorney General

DJGS00262 Special Counsel on Voting Matters to the Assistant Attorney General

DJGS00279 Deputy Director to the Director

DJGS00292 Deputy Privacy and Civil Liberties Officer to the Counselor and Chief of Staff

DJGS00295 Special Assistant to the United States Attorney, Massachusetts

DJGS00302 Associate Director to the Deputy Director

DJGS00307 Associate Director to the Director, Office of Intergovernmental and Public Liaison to the Director

DJGS00313 Special Assistant to the Assistant Attorney General (Legal Policy)

DJGS00314 Counsel to the Assistant Attorney General

DJGS00325 Staff Assistant to the Assistant Attorney General (Legislative Affairs)

DJGS00328 Associate Director to the Director

DJGS00332 Counsel to the Assistant Attorney General

DJGS00336 Special Assistant to the Assistant Attorney General to the Chief of Staff

DJGS00338 Special Assistant to the Assistant Attorney General

DJGS00346 Deputy Director to the Director, Office of Public Affairs

DJGS00364 Senior Press Assistant to the Director, Office of Public Affairs

DJGS00369 Deputy White House Liaison to the White House Liaison

DJGS00370 Confidential Assistant to the Attorney General

DJGS00374 Staff Assistant to the Director, Office of Public Affairs

DJGS00378 Special Assistant to the Director, Office of Public Affairs

DJGS00386 Deputy Director of Scheduling to the Director of Scheduling and Advance

DJGS00392 Policy Coordinator and Special Assistant to the Director

DJGS00398 Media Affairs Specialist to the Director, Office of Public Affairs

DJGS00406 Public Affairs Specialist to the Director, Office of Public Affairs

DJGS00413 Executive Assistant to the United States Attorney

DJGS00440 Confidential Assistant to the Assistant Attorney General Tax Division

DJGS60023 Special Assistant for International Protocol to the Director, Office of International Affairs

DJGS60173 Secretary (Office Automation) to the United States Attorney, Oklahoma, Northern District

DJGS60267 Counsel to the Assistant Attorney General

DJGS60277 Director of Scheduling and Advance to the Attorney General

DJGS60418 Secretary (Office Automation) to the United States Attorney, Nebraska

DJGS60420 Secretary (Office Automation) to the United States Attorney, Pennsylvania, Eastern District

DJGS60423 Secretary (Office Automation) to the United States Attorney, New Mexico

DJGS60427 Secretary (Office Automation) to the United States Attorney, New Hampshire

DJGS60430 Secretary (Office Automation) to the United States Attorney, Kansas

DJGS60436 Secretary (Office Automation) to the United States Attorney, Alabama, Southern District

DJGS60437 Secretary (Office Automation) to the United States Attorney, Delaware

Section 213.3311 Department of Homeland Security

DMGS00051 Business Analyst to the Special Assistant

DMGS00122 Director of Legislative Affairs for Science and Technology to the Assistant Secretary for Legislative Affairs

DMGS00151 Business Liaison to the Special Assistant

DMGS00239 Director of Intergovernmental Affairs for Emergency Preparedness and Response to the Disaster Fund Financial Manager

DMGS00253 Assistant Director of Legislative Affairs for Secretarial Offices to the Director of Legislative Affairs for Secretarial Offices

DMGS00259 Counter Narcotics Liaison to the Counter Narcotics Officer

DMGS00329 Senior Policy Advisor to the Deputy Assistant Secretary for Mission Integration

DMGS00349 Senior Advisor to the Assistant Secretary for Infrastructure Protection to the Deputy Assistant Secretary for Mission Integration

DMGS00395 Senior Advisor to the Chief Medical Officer

DMGS00411 Special Assistant to the Deputy Assistant Secretary for Infrastructure Protection

DMGS00413 Senior Legislative Policy Advisor to the Deputy Assistant Secretary for Border and Transportation Security Policy

DMGS00415 Public Affairs Specialist to the Assistant Commissioner for Public Affairs

DMGS00428 Advisor to the Chief of Staff

DMGS00437 Advisor to the Director to the Chief of Staff for Citizenship and Immigration Services

DMGS00446 Senior Advisor for Civil Rights and Civil Liberties to the Officer of Civil Rights and Civil Liberties

DMGS00449 Director of Legislative Affairs, Federal Emergency Management Agency to the Under Secretary for Federal Emergency Management

DMGS00454 Special Advisor for Refugee and Asylum Affairs to the Assistant Secretary for Policy

DMGS00458 Associate Executive Secretary for Internal Coordination to the Executive Secretary

DMGS00459 Assistant Director of Legislative Affairs for Information Analysis and Operations to the Assistant Secretary for Legislative Affairs

DMGS00468 Public Liaison Officer to the Director of Strategic Communications

DMGS00479 Chief Technology and Process Manager to the Executive Secretary

DMGS00490 Director of Faith-Based and Community Initiatives to the Under Secretary for National Protection and Programs

DMGS00497 Deputy Executive Director, Homeland Security Advisory Committees to the Executive Director

DMGS00500 White House Liaison and Advisor to the Chief of Staff

DMGS00503 Director of Strategic Communications to the Assistant Secretary for Public Affairs

DMGS00515 Assistant Director of Legislative Affairs for Miscellaneous Offices to the Assistant Secretary for Legislative Affairs

DMGS00516 Confidential Assistant to the Executive Secretary

DMGS00532 Advisor to the Director for Policy to the Director, Domestic Nuclear Detection Office

DMGS00537 Deputy Assistant Secretary for Policy Development to the Assistant Secretary for Policy

DMGS00538 Scheduler and Protocol Coordinator to the Director of Scheduling and Advance

DMGS00541 Director/Executive Secretariat, Private Sector Advisory Committee to the Executive Director, Homeland Security Advisory Committees

DMGS00542 Advisor for Intelligence to the Assistant Secretary, Immigration and Customs Enforcement

DMGS00543 Advance Representative to the Director of Scheduling and Advance

DMGS00544 Advance Representative to the Director of Scheduling and Advance

DMGS00545 Special Assistant to the Executive Director, Homeland Security Advisory Committees

DMGS00546 Coordinator of State and Local Affairs to the Chief of Staff

DMGS00549 Special Assistant to the Assistant Secretary for Infrastructure Protection

DMGS00550 Confidential Assistant to the Deputy Secretary of the Department of Homeland Security

DMGS00551 Confidential Assistant to the Chief of Staff

DMGS00552 Confidential Assistant to the General Counsel

DMGS00553 Director of Policy and Plans, Customs and Border Protection to the Commissioner, Customs and Border Protection

DMGS00554 Special Assistant to the Chief of Staff

DMGS00556 Deputy Chief of Staff to the Director of Information Integration and Special Assistant to the Secretary

DMGS00560 Associate Director of Communications for Intelligence and Analysis to the Deputy Assistant Secretary for Public Affairs

DMGS00564 Staff Assistant to the White House Liaison to the White House Liaison and Advisor

DMGS00568 Senior Media Affairs and Communication Specialist to the Chief of Staff

DMGS00570 Confidential Assistant to the Director, National Capital Region Coordination

DMGS00572 Confidential Assistant to the Director, Office of Screening Coordination

DMGS00573 Deputy Director of Secretarial Briefing Book to the Executive Secretary

DMGS00577 Deputy Director of the Center for Faith Based and Community Initiatives to the Director of Faith-Based and Community Initiatives

DMGS00578 Business Liaison Director to the Assistant Secretary for Private Sector

DMGS00579 Associate Director for Latin American Affairs to the Assistant Secretary for International Affairs

DMGS00580 Associate Director of Strategic Communications for Policy to the Director of Strategic Communications

DMGS00581 Associate Director of Legislative Affairs to the Assistant Secretary for Legislative Affairs

DMGS00582 Associate Director of Legislative Affairs to the Assistant Secretary for Legislative Affairs

DMGS00583 Policy Advisor to the Chief of Staff

DMGS00586 Counselor to the Administrator and Deputy Administrator to the Administrator for Federal Emergency Management Agency

DMGS00587 Deputy Director of Scheduling and Advance to the Director of Scheduling and Advance

DMGS00589 Senior Advisor to the Under Secretary for Science and Technology

DMGS00591 Correspondence Analyst to the Executive Secretary

DMGS00593 Director of Scheduling and Advance to the Chief of Staff

DMGS00595 Director of Homeland Security Council/National Security Council/White House Actions and Interagency Coordinator to the Executive Secretary

DMGS00597 Director of Communications, United States Citizenship and Immigration Services to the Director, Bureau of Citizenship and Immigration Services

DMGS00598 Legislative Assistant to the Assistant Secretary for Legislative Affairs

DMGS00599 Legislative Assistant to the Assistant Secretary for Legislative Affairs

DMGS00600 Confidential Assistant to the Under Secretary for Protocol and Advance Briefings to the Under Secretary for Science and Technology

DMGS00603 International Policy Analyst to the Under Secretary for Science and Technology

DMGS00604 Special Assistant to the Secretary for Stakeholder Affairs and Information Integration to the Chief of Staff

DMGS00605 Special Assistant for Strategic Communications and Public Relations to the Under Secretary for Science and Technology

DMGS00607 Business Liaison to the Assistant Secretary for Private Sector

DMGS00608 International Policy Analyst to the Under Secretary for Science and Technology

DMGS00609 Associate Director of White House Actions and Policy Coordinating Committee Coordinator to the Executive Secretary

DMGS00610 Public Affairs and Press Assistant to the Assistant Secretary for Public Affairs

DMGS00611 Special Assistant to the White House Liaison to the White House Liaison and Advisor

DMGS00613 Junior Writer and Researcher to the Director of Strategic Communications

DMGS00614 Confidential Assistant to the Chief Medical Officer

DMGS00615 Chief of Staff to the Assistant Secretary for Policy

DMGS00616 Senior Legislative Assistant to the Assistant Secretaries and Deputy Assistant Secretaries to the Assistant Secretary for Legislative Affairs

DMGS00617 Director of Legislative Affairs for Policy to the Assistant Secretary for Legislative Affairs

DMGS00619 Director of Legislative Affairs for Border Security and Immigration to the Assistant Secretary for Legislative Affairs

DMGS00620 Principal Associate Director of White House Actions and Policy Coordinating Committee Coordinator to the Executive Secretary

DMGS00621 Special Assistant to the Chief Intelligence Officer to the Assistant Secretary for Intelligence and Analysis

DMGS00622 Associate Director of Communications and Speechwriter to the Director of Communications

DMGS00623 Associate Director of Strategic Communications for Outreach to the Director of Strategic Communications

DMGS00624 Component Liaison and Correspondence Analyst to the Executive Secretary

DMGS00626 Deputy Secretary Briefing Book Coordinator to the Executive Secretary

DMGS00627 Counselor to the Director to the Director, Office of Counter Narcotics Enforcement

DMGS00628 Director, Homeland Security Information Network to the Deputy Chief of Staff

DMGS00629 Confidential Assistant to the General Counsel to the Chief of Staff, Office of General Counsel

DMGS00631 Advisor to the Administrator and Deputy Administrator to the Administrator for Federal Emergency Management Agency

DMGS00632 Component Liaison and Correspondence Analyst to the Executive Secretary

DMGS00633 Counselor to the Secretary to the Chief of Staff

DMGS00636 Coordinator for Senior Executive Actions to the Executive Secretary

DMGS00637 Special Assistant to the Chief of Staff, Office of General Counsel

DMGS00638 Special Assistant and Travel Aide to the Administrator for Federal Emergency Management Agency

DMGS00639 Advisor to the Under Secretary for Management to the Chief Human Capital Officer

DMGS00640 Director of External Affairs and Communications to the Administrator for Federal Emergency Management Agency

DMGS00641 Special Assistant to the Chief Medical Officer

DMGS00642 Special Assistant to the Assistant Commissioner, Congressional Affairs

DMGS00643 Supervisory Management and Program Analyst to the Executive Secretary

DMGS00645 Special Assistant to the Chief Privacy Officer

DMGS00646 Assistant Press Secretary to the Press Secretary

DMGS00647 Special Assistant to the Administrator and Deputy Administrator for Federal Emergency Management Agency

DMGS00648 Press Secretary to the Director of External Affairs and Communications

DMGS00649 Deputy White House Liaison to the White House Liaison and Advisor

DMGS00650 Special Assistant to the Assistant Secretary, Immigration and Customs Enforcement

DMGS00651 Press Assistant to the Press Secretary

DMGS00652 Director, Ready Campaign to the Assistant Secretary for Public Affairs

DMGS00653 Assistant Director to the Assistant Secretary for Legislative Affairs

DMGS00654 Associate Director, Ready Campaign to the Assistant Secretary for Public Affairs

DMGS00655 Coordinator for Local Affairs to the Director, Office of State and Local Government Coordination

DMGS00656 Director of Speechwriting to the Assistant Secretary for Public Affairs

DMGS00657 Special Assistant to the Chief of Staff

DMGS00658 Deputy Press Secretary to the Press Secretary

DMGS00663 Director, Transition and Transformation to the Director of Policy and Program Analysis

DMGS00664 Advance Representative to the Director of Scheduling and Advance

DMGS00668 Program Director to the Assistant Secretary for Intergovernmental Programs

DMGS00670 Advisor to the Deputy Administrator, Federal Emergency Management Agency

DMGS00673 Special Assistant for Faith Based and Community Initiatives to the Director of Faith-Based and Community Initiatives

DMGS00674 Special Assistant, Office of International Affairs to the Chief of Staff

DMGS00678 Advisor to the Director for Congressional and Intergovernmental Affairs to the Director, Bureau of Citizenship and Immigration Services

DMOT00679 Special Assistant to the Assistant Secretary, Transportation Security Administration

Section 213.3312 Department of the Interior

DIGS01046 Special Assistant—Advance to the Director—Scheduling and Advance

DIGS01053 Chief of Staff to the Assistant Secretary Policy Management and Budget

DIGS01059 Special Assistant—Historic Preservation to the Chief of Staff

DIGS01064 Hispanic Media Outreach Coordinator to the Director, Office of Communications

DIGS01068 Special Assistant to the Secretary for Alaska to the Senior Adviser to the Secretary for Alaskan Affairs

DIGS01069 Special Assistant to the Chief of Staff

DIGS01072 Special Assistant—Scheduling and Advance to the Director—Scheduling and Advance

DIGS01075 Associate Director—External and Intergovernmental Affairs to the Director, External and Intergovernmental Affairs

DIGS01076 Special Assistant to the Deputy Chief of Staff

DIGS01077 Special Assistant to the Solicitor to the Deputy Solicitor

DIGS01078 Counselor to the Assistant Secretary—Water and Science

DIGS01081 Associate Director to the Director, Congressional and Legislative Affairs

DIGS01084 Special Assistant to the Director—Scheduling and Advance

DIGS01086 Special Assistant (Scheduling and Advance) to the Director—Scheduling and Advance

DIGS01087 Special Assistant to the Senior Adviser to the Secretary for Alaskan Affairs

DIGS01088 Confidential Assistant to the Solicitor

DIGS01089 Special Assistant to the Deputy Chief of Staff

DIGS01090 Special Assistant (Scheduling and Advance) to the Director—Scheduling and Advance

DIGS01091 Special Assistant—Scheduling and Advance to the Director—Scheduling and Advance

DIGS01092 Special Assistant to the Assistant Secretary for Fish and Wildlife and Parks

DIGS01093 White House Liaison to the Chief of Staff

DIGS01095 Special Assistant to the White House Liaison

DIGS01096 Press Secretary to the Director, Office of Communications

DIGS01097 Director, Take Pride in America to the Director, External and Intergovernmental Affairs

DIGS01098 Deputy Press Secretary to the Director, Office of Communications

DIGS01100 Special Assistant to the Deputy Assistant Secretary—Land and Minerals Management

DIGS01102 Special Assistant to the Assistant Secretary for Water and Science

DIGS01103 Special Assistant to the Director, External and Intergovernmental Affairs

DIGS05001 Special Assistant to the Director Bureau of Land Management

DIGS60025 Special Assistant to the Secretary

DIGS60525 Special Assistant to the Assistant Secretary—Land and Minerals Management

DIGS61025 Director—Scheduling and Advance to the Chief of Staff

DIGS61027 Special Assistant to the Associate Deputy Secretary

DIGS61035 Special Assistant to the Director to the Director Office of Surface Mining Reclamation and Enforcement

DIGS61038 Special Assistant to the Director Minerals Management Service

DIGS70011 Special Assistant (Communication) to the Director, External and Intergovernmental Affairs

DIGS79003 Special Assistant (Communication) to the Director, External and Intergovernmental Affairs

Section 213.3313 Department of Agriculture

DAGS00158 Director of Constituent Affairs to the Deputy Chief of Staff

DAGS00164 Director of Web Design to the Deputy Chief of Staff

DAGS00179 Director of External Affairs to the Administrator for Risk Management

DAGS00200 Special Assistant to the Secretary

DAGS00609 Special Assistant to the Associate Assistant Secretary for Civil Rights

DAGS00611 Director to the Administrator, Food and Nutrition Service

DAGS00717 Special Assistant to the Administrator, Food and Nutrition Service

DAGS00718 Special Assistant to the Administrator, Farm Service Agency

DAGS00721 Confidential Assistant to the Administrator for Risk Management

DAGS00728 Confidential Assistant to the Under Secretary for Rural Development

DAGS00731 Special Assistant to the Chief, Natural Resources Conservation Service

DAGS00739 Staff Assistant to the Administrator for Risk Management

DAGS00741 Special Assistant to the Administrator

DAGS00768 Special Assistant to the Administrator

DAGS00773 Special Assistant to the Secretary

DAGS00778 Director of Faith-Based and Community Initiatives to the Secretary

DAGS00785 Special Assistant to the Administrator to the Under Secretary for Marketing and Regulatory Programs

DAGS00787 Director of Advance to the Director of Communications

DAGS00789 Staff Assistant to the Secretary

DAGS00796 Congressional Liaison to the Deputy Assistant Secretary

DAGS00798 Confidential Assistant to the Administrator, Rural Housing Service

DAGS00801 Confidential Assistant to the Secretary

DAGS00807 White House Liaison to the Secretary

DAGS00809 Special Assistant to the Deputy Administrator-Program Operations

DAGS00814 Special Assistant to the Special Assistant to the Chief of Staff, Office of the Secretary

DAGS00822 Special Assistant to the Associate Administrator, Programs

DAGS00826 Special Assistant to the Administrator, Agricultural Marketing Service

DAGS00828 Special Assistant to the Under Secretary for Rural Development

DAGS00829 Special Assistant to the Chief Information Officer

DAGS00830 Special Assistant to the Administrator

DAGS00836 Speech Writer to the Director of Communications

DAGS00837 Confidential Assistant to the Under Secretary for Rural Development

DAGS00839 Chief of Staff to the Administrator, Rural Housing Service

DAGS00842 Special Assistant to the Deputy Assistant Secretary for Administration

DAGS00843 Confidential Assistant to the Chief Financial Officer

DAGS00846 Deputy Director of Communications to the Director of Communications

DAGS00847 Confidential Assistant to the Associate Administrator

DAGS00850 Special Assistant to the Under Secretary for Rural Development

DAGS00851 Special Assistant to the Under Secretary for Research, Education and Economics

DAGS00852 Special Assistant to the Under Secretary for Rural Development

DAGS00853 Director, Native American Programs to the Assistant Secretary for Congressional Relations

DAGS00854 Staff Assistant to the Assistant Secretary for Congressional Relations

DAGS00855 Special Assistant to the Deputy Administrator for Field Operations

DAGS00858 Staff Assistant to the Administrator, Farm Service Agency

DAGS00861 Deputy Director, Office of Faith-Based and Community Initiatives to the Director of Faith-Based and Community Initiatives

DAGS00862 Confidential Assistant to the Assistant Secretary for Congressional Relations

DAGS00863 Director of External Affairs to the Administrator, Farm Service Agency

DAGS00864 Confidential Assistant to the Administrator, Rural Housing Service

DAGS00867 Associate Administrator to the Administrator

DAGS00868 Confidential Assistant to the Administrator, Rural Housing Service

DAGS00869 Press Secretary to the Director of Communications

DAGS00871 Staff Assistant to the Administrator, Farm Service Agency

DAGS00872 Confidential Assistant to the Director of Communications

DAGS00873 Staff Assistant to the Assistant Secretary for Administration

DAGS00874 Director of Speechwriting to the Director of Communications

DAGS00875 Confidential Assistant to the Assistant Secretary for Congressional Relations

DAGS00877 Confidential Assistant to the Deputy Assistant Secretary

DAGS00878 Staff Assistant to the Deputy Under Secretary, Research, Education and Economics

DAGS00879 Confidential Assistant to the Deputy Under Secretary for Marketing and Regulatory Programs

DAGS00880 Confidential Assistant to the Administrator, Farm Service Agency

DAGS00881 Legislative Analyst to the Under Secretary for Food Nutrition and Consumer Services

DAGS00882 Chief of Staff to the Chief, Natural Resources Conservation Service

DAGS00883 Special Assistant to the Chief, Natural Resources Conservation Service

DAGS00884 Confidential Assistant to the Under Secretary for Marketing and Regulatory Programs

DAGS00885 Confidential Assistant to the Administrator, Food and Nutrition Service

DAGS00886 Special Assistant to the Administrator

DAGS00887 Special Assistant to the Under Secretary for Farm and Foreign Agricultural Services

DAGS00889 Senior Counsel to the General Counsel

DAGS00891 Special Assistant to the Assistant Secretary for Congressional Relations

DAGS00892 Confidential Assistant to the Chief, Natural Resources Conservation Service

DAGS00895 Special Assistant to the Under Secretary for Rural Development

DAGS00896 Special Assistant to the Under Secretary for Rural Development

DAGS00897 Deputy Director of Intergovernmental Affairs to the Assistant Secretary for Congressional Relations

DAGS00899 Staff Assistant to the Under Secretary for Natural Resources and Environment

DAGS00902 Deputy White House Liaison to the Secretary

DAGS00904 Director of Legislative Affairs to the Administrator, Foreign Agricultural Service

DAGS00905 Special Assistant to the Administrator to the Under Secretary for Marketing and Regulatory Programs

DAGS00906 Press Assistant to the Director of Communications

DAGS00907 Staff Assistant to the Administrator

DAGS60114 Confidential Assistant to the Deputy Secretary

DAGS60116 Confidential Assistant to the Under Secretary for Rural Development

DAGS60129 Special Assistant to the Administrator for Risk Management

DAGS60135 Confidential Assistant to the Administrator, Foreign Agricultural Service

DAGS60138 Special Assistant to the Administrator

DAGS60263 Special Assistant to the Chief, Natural Resources Conservation Service

DAGS60384 Confidential Assistant to the Secretary

DAGS60436 Confidential Assistant to the Administrator

Section 213.3314 Department of Commerce

DCGS00048 Confidential Assistant to the Deputy Under Secretary and Deputy Director of U.S. Patent and Trademark Office

DCGS00074 Director of Public Affairs to the Deputy Assistant Secretary for External Affairs and Communication

DCGS00162 Senior Advisor to the Assistant to the Secretary and Director, Office of Policy and Strategic Planning

DCGS00184 Confidential Assistant to the Assistant Secretary for Telecommunications and Information

DCGS00191 Special Assistant to the General Counsel

DCGS00199 Legislative Affairs Specialist to the Assistant Secretary for Legislative and Intergovernmental Affairs

DCGS00202 Legislative Affairs Specialist to the Assistant Secretary for Legislative and Intergovernmental Affairs

DCGS00237 Special Assistant to the Deputy Assistant Secretary for Industry Analysis

DCGS00264 Special Assistant to the Assistant Secretary for Economic Development

DCGS00288 Confidential Assistant to the Director, Office of Business Liaison

DCGS00298 Senior Advisor to the Assistant Secretary for Telecommunications and Information

DCGS00311 Confidential Assistant to the Director Office of White House Liaison

DCGS00328 Special Assistant to the Director, Advocacy Center

DCGS00330 Special Assistant to the Director Advocacy Center

DCGS00339 Confidential Assistant to the Assistant Secretary for Legislative and Intergovernmental Affairs

DCGS00342 Deputy Director to the Director, Office of Liaison to the Director Office of White House Liaison

DCGS00344 Public Affairs Specialist to the Director of Public Affairs

DCGS00351 Confidential Assistant to the Deputy General Counsel

DCGS00361 Chief of Congressional Affairs to the Associate Director for Communications

DCGS00367 Confidential Assistant to the Director, Office of Legislative Affairs

DCGS00368 Congressional Affairs Specialist to the Director, Office of Legislative Affairs

DCGS00380 Confidential Assistant to the Chief of Staff to the Under Secretary, International Trade Administration

DCGS00382 Confidential Assistant to the Coordinator for International Intellectual Property Enforcement

DCGS00385 Special Assistant to the Associate Under Secretary for Economic Affairs

DCGS00386 Confidential Assistant to the Director, Office of Legislative Affairs

DCGS00389 Senior Advisor to the Assistant Secretary for Import Administration

DCGS00395 Confidential Assistant to the Director of Global Trade Programs

DCGS00409 Special Assistant to the Secretary

DCGS00412 Special Assistant to the Assistant Secretary for Import Administration

DCGS00425 Director of Public Affairs to the Under Secretary for International Trade

DCGS00427 Senior Advisor to the Assistant Secretary for Export Enforcement

DCGS00431 Special Assistant to the Assistant Secretary for Export Administration

DCGS00432 Confidential Assistant to the Director of Advance

DCGS00433 Senior Policy Advisor to the Chief of Staff for National Oceanic and Atmospheric Administration

DCGS00442 Director of Public Affairs to the Assistant Secretary for Telecommunications and Information

DCGS00447 Confidential Assistant to the Director of Scheduling

DCGS00457 Confidential Assistant to the Director of Scheduling

DCGS00460 Director of Intergovernmental Affairs to the Assistant Secretary for Legislative and Intergovernmental Affairs

DCGS00467 Confidential Assistant to the Deputy Assistant Secretary for Economic Development

DCGS00485 Special Assistant to the Director, Office of External Affairs

DCGS00502 Deputy Director of Advance to the Director of Advance

DCGS00506 Public Affairs Specialist to the Director of Public Affairs

DCGS00517 Director, Congressional and Public Affairs to the Under Secretary of Commerce for Industry and Security

DCGS00520 Special Assistant to the Executive Director for Trade Promotion and Outreach

DCGS00521 Confidential Assistant to the Deputy Assistant Secretary for Domestic Operations

DCGS00526 Confidential Assistant to the Director, Advocacy Center

DCGS00531 Confidential Assistant to the Deputy Assistant Secretary for Services

DCGS00534 Confidential Assistant to the Deputy Assistant Secretary for Transportation and Machinery

DCGS00540 Confidential Assistant to the Chief of Staff

DCGS00541 Confidential Assistant to the Director, Advocacy Center

DCGS00546 Special Assistant to the Deputy Secretary

DCGS00547 Confidential Assistant to the Deputy Under Secretary and Deputy Director of U.S. Patent and Trademark Office

DCGS00560 Senior Policy Advisor to the Assistant to the Secretary and Director, Office of Policy and Strategic Planning

DCGS00570 Senior Policy Advisor to the Assistant to the Secretary and Director, Office of Policy and Strategic Planning

DCGS00579 Director for Legislative and Intergovernmental Affairs to the Assistant Secretary for Legislative and Intergovernmental Affairs

DCGS00582 Confidential Assistant to the Assistant Secretary for Export Enforcement

DCGS00587 Confidential Assistant to the Assistant Secretary for Legislative and Intergovernmental Affairs

DCGS00590 Confidential Assistant to the Director, Executive Secretariat

DCGS00592 Legislative Affairs Specialist to the Under Secretary of Commerce for Intellectual Property and Director of the U.S. Patent and Trademark Office

DCGS00593 Senior Advisor to the Coordinator for International Intellectual Property Enforcement

DCGS00608 Confidential Assistant to the Under Secretary for International Trade

DCGS00612 Director of Advisory Committees to the Assistant Secretary for Manufacturing and Services

DCGS00614 Special Assistant to the Executive Director for Trade Promotion and Outreach

DCGS00620 Director, Office of Legislative Affairs to the Under Secretary for International Trade

DCGS00623 Public Affairs Specialist to the Assistant Secretary for Manufacturing and Services

DCGS00628 Confidential Assistant to the Director of Speechwriting

DCGS00631 Policy Advisor to the Under Secretary Oceans and Atmosphere (Administrator, National Oceanic and Atmospheric Administration)

DCGS00639 Press Secretary to the Director of Public Affairs

DCGS00642 Protocol Officer to the Chief of Staff

DCGS00652 Confidential Assistant to the Director of Public Affairs

DCGS00655 Senior Advisor to the Deputy Assistant Secretary for Domestic Operations

DCGS00657 Confidential Assistant to the Director, Executive Secretariat

DCGS00658 Confidential Assistant to the Director, Office of Legislative Affairs

DCGS00669 Confidential Assistant to the Assistant Secretary for Market Access and Compliance

DCGS00672 Senior Advisor to the Deputy Secretary

DCGS00686 Director of Advance to the Chief of Staff

DCGS00687 Policy Advisor to the Assistant to the Secretary and Director, Office of Policy and Strategic Planning

DCGS00696 Deputy Director of Public Affair to the Director of Public Affairs

DCGS06017 Senior Legislative Counsel to the General Counsel

DCGS60001 Deputy Director, Office of Business Liaison to the Director, Office of Business Liaison

DCGS60004 Deputy Director, Executive Secretariat to the Director, Executive Secretariat

DCGS60006 Confidential Assistant to the Director of Advance

DCGS60072 Director of Congressional Affairs to the Deputy Assistant Secretary for External Affairs and Communication

DCGS60136 Special Assistant to the Under Secretary of Commerce for Industry and Security

DCGS60160 Confidential Assistant to the Director, Advocacy Center

DCGS60163 Executive Assistant to the Deputy Secretary to the Deputy Secretary

DCGS60205 Policy Advisor to the Chief of Staff for National Oceanic and Atmospheric Administration

DCGS60262 Deputy Director of Advisor Committees to the Director of Advisory Committees

DCGS60263 Special Assistant to the Executive Director for Trade Promotion and Outreach

DCGS60272 Confidential Assistant to the Assistant Secretary for Market Access and Compliance

DCGS60276 Executive Assistant to the Under Secretary for Economic Affairs

DCGS60290 Special Assistant to the Deputy Assistant Secretary for Domestic Operations

DCGS60302 Director of External Affairs to the Director of Communications

DCGS60312 Senior Advisor to the Deputy Assistant Secretary for Domestic Operations

DCGS60394 Deputy Director, Office of Public Affairs to the Director of Public Affairs

DCGS60395 Confidential Assistant to the Assistant Secretary and Director General of United States/For Commercial Services

DCGS60396 Legislative Affairs Specialist to the Director, Office of Legislative Affairs

DCGS60462 Director of Operations to the Deputy Under Secretary and Deputy Director of U.S. Patent and Trademark Office

DCGS60471 Confidential Assistant to the Chief of Staff to the Deputy Secretary

DCGS60490 Director of Scheduling to the Chief of Staff

DCGS60512 Senior Advisor to the Under Secretary of Commerce for Industry and Security

DCGS60532 Senior Counsel to the General Counsel

DCGS60536 Speechwriter to the Director for Speechwriting

DCGS60573 Special Assistant to the Assistant Secretary and Director General of United States/For Commercial Services

DCGS60574 Confidential Assistant to the Director, Office of Business Liaison

DCGS60583 Special Assistant to the Assistant Secretary for Administrator and Chief Financial Officer

DCGS60609 Confidential Assistant to the Chief of Staff

DCGS60618 Special Assistant to the Deputy Under Secretary and Deputy Director of U.S. Patent and Trademark Office

DCGS60651 Public Affairs Specialist to the Director of Public Affairs

DCGS60664 Special Assistant to the Assistant Secretary and Director General of United States/For Commercial Services

DCGS60670 Director Office of Business Liaison to the Chief of Staff for National Oceanic and Atmospheric Administration

DCGS60677 Director, Office of Energy, Environment and Materials to the Deputy Assistant Secretary for Manufacturing

DCGS60681 Speechwriter to the Under Secretary of Commerce for Intellectual Property and Director of the U.S. Patent and Trademark Office

DCGS60684 Director of Speechwriting to the Director of Public Affairs

DCGS60694 Senior Advisor to the Director, Bureau of the Census to the Director

Section 213.3315 Department of Labor

DLGS60003 Staff Assistant to the Director, 21st Century Office and Deputy Assistant Secretary for Intergovernmental Affairs

DLGS60007 Special Assistant to the Director, 21st Century Office and Deputy Assistant Secretary for Intergovernmental Affairs

DLGS60015 Legislative Assistant to the Assistant Secretary for Congressional and Intergovernmental Affairs

DLGS60017 Senior Legislative Officer to the Assistant Secretary for Congressional and Intergovernmental Affairs

DLGS60025 Senior Legislative Officer to the Assistant Secretary for Congressional and Intergovernmental Affairs

DLGS60045 Staff Assistant to the Special Assistant

DLGS60055 Special Assistant to the Assistant Secretary for Public Affairs

DLGS60066 Staff Assistant to the Deputy Assistant Secretary for Federal Contract Compliance

DLGS60076 Special Assistant to the Assistant Secretary for Employment Standards

DLGS60078 Staff Assistant to the Assistant Secretary for Policy

DLGS60084 Special Assistant to the Associate Deputy Secretary

DLGS60086 Senior Advisor to the Wage and Hour Administrator

DLGS60092 Senior Attorney Adviser to the Solicitor of Labor

DLGS60094 Special Assistant to the Assistant Secretary for Public Affairs

DLGS60096 Chief of Staff to the Deputy Assistant Secretary for Labor-Management Programs

DLGS60099 Special Assistant to the Deputy Assistant Secretary for Employment and Training

DLGS60104 Regional Representative to the Assistant Secretary for Congressional and Intergovernmental Affairs

DLGS60105 Regional Representative to the Assistant Secretary for Congressional and Intergovernmental Affairs

DLGS60107 Regional Representative to the Assistant Secretary for Congressional and Intergovernmental Affairs

DLGS60109 Regional Representative to the Assistant Secretary for Congressional and Intergovernmental Affairs

DLGS60110 Regional Representative to the Assistant Secretary for Congressional and Intergovernmental Affairs

DLGS60111 Regional Representative to the Assistant Secretary for Congressional and Intergovernmental Affairs

DLGS60112 Regional Representative to the Assistant Secretary for Congressional and Intergovernmental Affairs

DLGS60116 Special Assistant to the Chief Financial Officer

DLGS60119 Staff Assistant to the Chief of Staff

DLGS60120 Senior Legislative Officer to the Assistant Secretary for Congressional and Intergovernmental Affairs

DLGS60121 Special Assistant to the Deputy Chief of Staff

DLGS60123 Special Assistant to the Deputy Assistant Secretary

DLGS60131 Special Assistant to the Assistant Secretary for Employment and Training

DLGS60132 Special Assistant to the Chief of Staff

DLGS60133 Chief of Staff to the Director of the Women's Bureau

DLGS60135 Special Assistant to the Director, 21st Century Office and Deputy Assistant Secretary for Intergovernmental Affairs

DLGS60138 Chief of Staff to the Assistant Secretary for Mine Safety and Health

DLGS60141 Special Assistant to the Deputy Assistant Secretary for Labor-Management Programs

DLGS60142 Special Assistant to the Chief of Staff

DLGS60144 Staff Assistant to the Director, 21st Century Office and Deputy Assistant Secretary for Intergovernmental Affairs

DLGS60145 Intergovernmental Officer to the Assistant Secretary for Congressional and Intergovernmental Affairs

DLGS60146 Attorney Advisor to the Solicitor of Labor

DLGS60147 Attorney Adviser to the Solicitor of Labor

DLGS60153 Special Assistant to the Deputy Under Secretary for International Affairs

DLGS60160 Speechwriter to the Assistant Secretary for Public Affairs

DLGS60168 Senior Intergovernmental Affairs Officer to the Assistant Secretary for Congressional and Intergovernmental Affairs

DLGS60169 Deputy Director, Executive Secretariat to the Executive Secretary

DLGS60170 Special Assistant to the Secretary of Labor

DLGS60172 Special Assistant to the Associate Deputy Secretary

DLGS60174 Special Assistant to the Director of Operations

DLGS60175 Senior Advisor to the Deputy Assistant Secretary for Policy

DLGS60176 Special Assistant to the Associate Deputy Secretary

DLGS60178 Staff Assistant to the Executive Secretary

DLGS60179 Senior Advisor to the Assistant Secretary for Employment Standards

DLGS60180 Senior Legislative Officer to the Assistant Secretary for Congressional and Intergovernmental Affairs

DLGS60181 Special Assistant to the Assistant Secretary for Public Affairs

DLGS60182 Staff Assistant to the White House Liaison

DLGS60183 Special Assistant to the Assistant Secretary for Occupational Safety and Health

DLGS60187 Special Assistant to the Assistant Secretary for Employment and Training

DLGS60189 Special Assistant to the Chief Financial Officer

DLGS60190 Senior Legislative Officer to the Assistant Secretary for Congressional and Intergovernmental Affairs

DLGS60192 Chief of Staff to the Assistant Secretary for Employee Benefits Security

DLGS60195 Special Assistant to the Assistant Secretary for Employment Standards

DLGS60196 Special Assistant to the Assistant Secretary for Veterans Employment and Training

DLGS60199 Special Assistant to the Assistant Secretary for Public Affairs

DLGS60201 Special Assistant to the Secretary of Labor

DLGS60203 Special Assistant to the Assistant Secretary for Veterans Employment and Training

DLGS60205 Deputy Director, 21st Century Workforce to the Director, 21st Century Workforce

DLGS60209 Chief of Staff to the Assistant Secretary for Veterans Employment and Training

DLGS60211 Special Assistant to the Director of Scheduling

DLGS60212 Special Assistant to the Director, Office of Faith Based and Community Initiatives

DLGS60214 Staff Assistant to the Director, Office of Faith Based and Community Initiatives

DLGS60215 Special Assistant to the Assistant Secretary for Occupational Safety and Health

DLGS60218 Special Assistant to the Assistant Secretary for Public Affairs

DLGS60220 Special Assistant to the Assistant Secretary for Public Affairs

DLGS60222 Special Assistant to the Assistant Secretary for Disability Employment Policy

DLGS60225 Special Assistant to the Assistant Secretary for Public Affairs

DLGS60226 Special Assistant to the Assistant Secretary for Employee Benefits Security

DLGS60228 Chief of Staff to the Assistant Secretary for Occupational Safety and Health

DLGS60229 Chief of Staff to the Assistant Secretary for Disability Employment Policy

DLGS60230 Staff Assistant to the Associate Deputy Secretary

DLGS60231 Staff Assistant to the Director of Scheduling

DLGS60232 Special Assistant to the Assistant Secretary for Administration and Management

DLGS60233 Senior Advisor to the Assistant Secretary for Employment Standards

DLGS60234 Chief of Staff to the Assistant Secretary for Policy

DLGS60235 Legislative Assistant to the Assistant Secretary for Congressional and Intergovernmental Affairs

DLGS60236 Legislative Officer to the Assistant Secretary for Congressional and Intergovernmental Affairs

DLGS60237 Special Assistant to the Secretary of Labor

DLGS60238 Legislative Assistant to the Assistant Secretary for Congressional and Intergovernmental Affairs

DLGS60239 Staff Assistant to the Director of Operations

DLGS60240 Legislative Officer to the Assistant Secretary for Congressional and Intergovernmental Affairs

DLGS60244 Special Assistant to the Executive Assistant to the Secretary

DLGS60245 Staff Assistant to the Executive Assistant to the Secretary

DLGS60247 Legislative Assistant to the Assistant Secretary for Congressional and Intergovernmental Affairs

DLGS60248 Special Assistant to the Director of Public Liaison

DLGS60250 Deputy Director of Scheduling to the Director of Scheduling

DLGS60251 Director of Scheduling to the Chief of Staff

DLGS60252 Special Assistant to the Director, 21st Century Office and Deputy Assistant Secretary for Intergovernmental Affairs

DLGS60255 Special Assistant to the Executive Assistant to the Secretary

DLGS60256 Special Assistant to the Deputy Assistant Secretary for Labor-Management Programs

DLGS60257 Intergovernmental Assistant to the Assistant Secretary for Congressional and Intergovernmental Affairs

DLGS60260 Staff Assistant to the Deputy Chief of Staff

DLGS60261 Special Assistant to the Deputy Assistant Secretary for Mine Safety and Health

DLGS60262 Special Assistant to the Assistant Secretary for Employment Standards

DLGS60264 Chief of Staff to the Wage and Hour Administrator

DLGS60267 Special Assistant to the Assistant Secretary for Public Affairs

DLGS60269 Special Assistant to the Director of Scheduling

DLGS60270 Special Assistant to the Assistant Secretary for Employment and Training

DLGS60272 Special Assistant to the Director, 21st Century Office and Deputy Assistant Secretary for Intergovernmental Affairs

DLGS60273 Special Assistant to the Chief Information Officer to the Assistant Secretary for Administration and Management

DLGS60277 Special Assistant to the Assistant Secretary for Administration and Management

DLGS60278 Staff Assistant to the Chief Financial Officer

Section 213.3316 Department of Health and Human Services

DHGS00268 Special Assistant to the Executive Secretary to the Department

DHGS00269 Chief Acquisitions Officer to the Assistant Secretary for Administration and Management

DHGS60005 Confidential Assistant to the Assistant Secretary for Aging (Commissioner for Aging)

DHGS60006 Confidential Assistant to the Assistant Secretary for Public Affairs

DHGS60007 Special Assistant to the Associate Commissioner for External Relations

DHGS60008 Senior Advisor to the Assistant Secretary for Children and Families

DHGS60009 Special Assistant to the Assistant Secretary for Preparedness and Response to the Assistant Secretary for Public Health Emergency Preparedness

DHGS60010 Confidential Assistant (Faith-Based) to the Director, Center for Faith Based and Community Initiatives

DHGS60014 Director (Office of Document and Regulations Management) to the Executive Secretary to the Department

DHGS60015 Deputy Director, Center for Faith Based and Community Initiatives to the Director, Center for Faith Based and Community Initiatives

DHGS60017 Director of Scheduling to the Chief of Staff

DHGS60018 Deputy Director for Advance to the Director of Scheduling

DHGS60021 Special Assistant to the Director, Office of Community Services

DHGS60023 Special Assistant to the Director, Center for Disease Control and Prevention Administration

DHGS60027 Deputy Director for Scheduling to the Director of Scheduling

DHGS60028 Special Assistant to the Chief of Staff

DHGS60029 Special Assistant to the Assistant Secretary for Public Affairs

DHGS60030 Special Assistant to the General Counsel

DHGS60032 Special Assistant to the Deputy Commissioner for Policy

DHGS60033 Special Assistant to the Assistant Secretary for Administration and Management

DHGS60035 Confidential Assistant to the Administrator to the Administrator Centers for Medicare and Medicaid Services

DHGS60036 Confidential Assistant to the Director to the Director of Intergovernmental Affairs

DHGS60037 Director, Trafficking Program to the Director Office of Refugee Resettlement

DHGS60038 Special Assistant to the Senior Advisor to the Assistant Secretary for Health

DHGS60040 Special Assistant to the Chief of Staff

DHGS60041 Special Assistant to the Deputy Commissioner for Policy

DHGS60043 Deputy Assistant Secretary for Planning and Evaluation Human Services Policy to the Assistant Secretary for Planning and Evaluation

DHGS60044 Special Assistant to the Assistant Secretary for Legislation

DHGS60045 Associate Director Temporary Assistance for Needy Families to the Director, Office of Family Assistance

DHGS60046 Senior Speech Writer to the Assistant Secretary for Public Affairs

DHGS60048 Special Assistant to the Deputy Assistant Secretary for Public Affairs (Media)

DHGS60050 Confidential Assistant to the Associate Commissioner Head Start Bureau

DHGS60053 Confidential Assistant to the Principal Deputy Assistant Secretary for Planning and Evaluation

DHGS60056 Special Assistant to the Director Office of Refugee Resettlement

DHGS60057 Special Assistant to the Director Office of Refugee Resettlement

DHGS60058 Confidential Assistant to the Director, Congressional Liaison Office

DHGS60060 Special Assistant to the Deputy for Policy and External Affairs

DHGS60127 Confidential Assistant to the Administrator Centers for Medicare and Medicaid Services

DHGS60133 Special Assistant to the Assistant Secretary for Budget, Technology and Finance to the Assistant Secretary for Budget Technology and Finance

DHGS60168 Confidential Assistant to the Deputy Assistant Secretary for Legislation (Planning and Budget)

DHGS60169 Special Assistant to the Assistant Secretary for Public Affairs

DHGS60180 Special Assistant to the Principal Deputy Assistant Secretary for Planning and Evaluation

DHGS60237 Regional Director, New York, Region II to the Director of Intergovernmental Affairs

DHGS60238 Regional Director, Boston, Massachusetts, Region I to the Director of Intergovernmental Affairs

DHGS60240 Regional Director, Dallas, Texas, Region VI to the Director of Intergovernmental Affairs

DHGS60243 Regional Director, Atlanta, Georgia, Region IV to the Director of Intergovernmental Affairs

DHGS60244 Regional Director, Seattle, Washington, Region X to the Director of Intergovernmental Affairs

DHGS60247 Regional Director Philadelphia Region III to the Director of Intergovernmental Affairs

DHGS60252 Regional Director, Denver, Colorado, Region VIII to the Director of Intergovernmental Affairs

DHGS60255 Regional Director, Chicago, Illinois-Region V to the Director of Intergovernmental Affairs

DHGS60256 Confidential Assistant to the Director of Intergovernmental Affairs

DHGS60293 Special Assistant to the Commissioner Administration for Children Youth and Families

DHGS60336 Confidential Assistant to the Deputy Assistant Secretary for Legislation (Human Services)

DHGS60345 Director of Public Affairs to the Assistant Secretary for Children and Families

DHGS60347 Congressional Liaison Specialist to the Deputy Assistant Secretary for Legislation (Congressional Liaison)

DHGS60363 Director, Congressional Liaison Office to the Assistant Secretary for Legislation

DHGS60374 Confidential Assistant to the Executive Secretary to the Department

DHGS60399 Special Assistant to the Assistant Secretary for Children and Families

DHGS60412 Regional Director, San Francisco, California, Region IX to the Director of Intergovernmental Affairs

DHGS60417 Regional Director, Kansas City, Missouri, Region VII to the Director of Intergovernmental Affairs

DHGS60418 Confidential Assistant to the Deputy Assistant Secretary for Public Affairs (Policy and Strategy)

DHGS60427 Executive Director, President's Committee for People with Intellectual Disabilities to the Assistant Secretary for Children and Families

DHGS60436 Associate Commissioner to the Assistant Secretary for Children and Families

DHGS60485 Director of Communications to the Assistant Secretary, Health

DHGS60513 Special Assistant to the Commissioner for Child Support Enforcement to the Director of Public Affairs

DHGS60519 Speechwriter to the Deputy Assistant Secretary for Public Affairs (Policy and Strategy)

DHGS60523 Executive Director, President's Council on Physical Fitness and Sports to the Assistant Secretary, Health

DHGS60526 Confidential Assistant to the Deputy Secretary to the Deputy Secretary, Health and Human Services

DHGS60527 Confidential Assistant (Scheduling) to the Director of Scheduling

DHGS60546 Special Assistant to the Executive Secretary to the Executive Secretary to the Department

DHGS60570 Confidential Assistant (Advance) to the Deputy Director for Advance

DHGS60627 Confidential Assistant to the Administrator, Substance Abuse and Mental Health Service

DHGS60632 Special Outreach Coordinator to the Deputy Assistant Secretary for Public Affairs (Policy and Strategy)

DHGS60636 Senior Advisor to the Director, Indian Health Service to the Director, Indian Health Service

DHGS60675 Special Assistant to the Assistant Secretary for Aging (Commissioner for Aging)

DHGS60681 Confidential Assistant to the Director of Media Affairs to the Director of Media Affairs

DHGS60689 Director of Media Affairs to the Director, Office of External Affairs

DHGS60698 Special Assistant to the Director, Office of External Affairs to the Director, Office of External Affairs

Section 213.3317 Department of Education

DBGS00081 Special Assistant to the Director, Faith-Based and Community Initiatives Center

DBGS00198 Special Assistant to the Assistant Secretary for Special Education and Rehabilitative Services

DBGS00204 Special Assistant to the Chief Financial Officer

DBGS00211 Special Assistant to the Deputy Under Secretary for Safe and Drug-Free Schools

DBGS00284 Confidential Assistant (Protocol) to the Deputy Chief of Staff for Operations

DBGS00285 Special Assistant (Education Attache to the United States Mission to the United Nations Educational, Scientific and Cultural Organization) to the Secretary

DBGS00290 Special Assistant to the Assistant Secretary for Vocational and Adult Education

DBGS00299 Special Assistant to the Assistant Secretary for Elementary and Secondary Education

DBGS00303 Director, White House Initiative on Hispanic Education to the Chief of Staff

DBGS00306 Deputy Assistant Secretary to the Assistant Secretary for Legislation and Congressional Affairs

DBGS00344 Special Assistant to the Deputy Assistant Secretary

DBGS00355 Confidential Assistant to the Chief of Staff to the Deputy Secretary

DBGS00359 Special Assistant to the Assistant Secretary for Civil Rights

DBGS00375 Confidential Assistant to the Assistant Secretary for Special Education and Rehabilitative Services

DBGS00376 Director, Scheduling and Advance Staff to the Chief of Staff

DBGS00391 Confidential Assistant to the Secretary

DBGS00396 Special Assistant to the Director, Faith-Based and Community Initiatives Center

DBGS00404 Special Assistant to the Deputy General Counsel for Departmental and Legislative Service

DBGS00405 Special Assistant to the Assistant Secretary for Special Education and Rehabilitative Services

DBGS00411 Special Assistant to the Chief of Staff

DBGS00413 Special Assistant to the Assistant Secretary for Elementary and Secondary Education

DBGS00423 Secretary's Regional Representative to the Director, Regional Services

DBGS00424 Secretary's Regional Representative to the Director, Regional Services

DBGS00425 Secretary's Regional Representative to the Director, Regional Services

DBGS00427 Secretary's Regional Representative to the Director, Regional Services

DBGS00428 Confidential Assistant to the Director, Regional Services

DBGS00431 Press Secretary to the Chief of Staff

DBGS00435 Special Assistant to the Chief of Staff

DBGS00442 Confidential Assistant to the Director, Regional Services

DBGS00446 Deputy Secretary's Regional Representative to the Secretary's Regional Representative, Region 3

DBGS00451 Secretary's Regional Representative, Region 5 to the Director, Regional Services

DBGS00452 Secretary's Regional Representative, Region 7 to the Director, Regional Services

DBGS00453 Secretary's Regional Representative, Region 8 to the Director, Regional Services

DBGS00454 Deputy Secretary's Regional Representative, Region 8 to the Director, Regional Services

DBGS00455 Deputy Secretary's Regional Representative—Region X to the Director, Regional Services

DBGS00457 Confidential Assistant to the Assistant Secretary, Office of Communications and Outreach

DBGS00462 Special Assistant to the Assistant Secretary, Office of Communications and Outreach

DBGS00463 Deputy Assistant Secretary to the Assistant Secretary for Legislation and Congressional Affairs

DBGS00464 Special Assistant to the Chief of Staff

DBGS00466 Confidential Assistant to the Assistant Secretary, Office of Communications and Outreach

DBGS00467 Director, Faith-Based and Community Initiatives Center to the Chief of Staff

DBGS00469 Special Assistant to the Chief of Staff

DBGS00474 Deputy Secretary's Regional Representative, Region 6 to the Director, Regional Services

DBGS00476 Special Assistant to the Deputy Assistant Secretary for Media Relations and Strategic Communications

DBGS00477 Deputy Secretary's Regional Representative, Region 4 to the Director, Regional Services

DBGS00478 Confidential Assistant to the Assistant Secretary for Legislation and Congressional Affairs

DBGS00481 Special Assistant to the Assistant Secretary for Elementary and Secondary Education

DBGS00482 Executive Director to the Chief of Staff

DBGS00484 Deputy Assistant Secretary to the Assistant Secretary, Office of Communications and Outreach

DBGS00487 Deputy Assistant Secretary (Senate) to the Assistant Secretary for Legislation and Congressional Affairs

DBGS00488 Executive Assistant to the Assistant Secretary for Postsecondary Education

DBGS00495 Confidential Assistant to the Chief of Staff

DBGS00499 Director, Intergovernmental Affairs to the Deputy Assistant Secretary for External Affairs and Outreach Services

DBGS00500 Confidential Assistant to the Chief of Staff

DBGS00503 Deputy Secretary's Regional Representative, Region 1 to the Director, Regional Services

DBGS00505 Deputy Secretary's Regional Representative, Region 6 to the Director, Regional Services

DBGS00508 Deputy Director, Office of English Language Acquisition to the Assistant Deputy Secretary and Director, Office of English Language Acquisition

DBGS00509 Executive Director, White House Initiative on Historically Black Colleges and Universities to the Chief of Staff

DBGS00511 Special Assistant to the Director, International Affairs Office

DBGS00512 Special Assistant to the Deputy Assistant Secretary for External Affairs and Outreach Services

DBGS00513 Special Assistant to the Assistant Secretary for Planning, Evaluation, and Policy Development

DBGS00514 Special Assistant to the Director, Faith-Based and Community Initiatives Center

DBGS00518 Special Assistant to the Director, Regional Services

DBGS00521 Deputy Chief of Staff for Strategy to the Chief of Staff

DBGS00523 Director, White House Liaison to the Chief of Staff

DBGS00524 Special Assistant to the Chief of Staff to the Deputy Secretary

DBGS00528 Chief of Staff to the Assistant Deputy Secretary for Innovation and Improvement

DBGS00531 Press Secretary to the Assistant Secretary, Office of Communications and Outreach

DBGS00532 Special Assistant to the Director, Office of Educational Technology

DBGS00533 Special Assistant to the Director, White House Liaison

DBGS00534 Special Assistant to the Under Secretary

DBGS00536 Confidential Assistant to the Deputy Assistant Secretary

DBGS00539 Special Assistant to the Senior Counselor to the Secretary

DBGS00540 Confidential Assistant to the Director, Scheduling and Advance Staff

DBGS00541 Special Assistant to the Assistant Deputy Secretary for Safe and Drug-Free Schools

DBGS00542 Special Assistant to the Executive Assistant

DBGS00543 Confidential Assistant to the Assistant Secretary for Legislation and Congressional Affairs

DBGS00544 Confidential Assistant to the Press Secretary

DBGS00545 Director, Regional Services to the Assistant Secretary, Office of Communications and Outreach

DBGS00546 Special Assistant to the Director, Scheduling and Advance Staff

DBGS00547 Special Assistant to the Assistant Secretary for Civil Rights

DBGS00549 Special Assistant to the Assistant Secretary for Special Education and Rehabilitative Services

DBGS00551 Confidential Assistant to the Senior Policy Advisor to the Deputy Secretary

DBGS00552 Confidential Assistant to the Assistant Deputy Secretary for Safe and Drug-Free Schools

DBGS00553 Deputy Secretary's Regional Representative, Region 9 to the Assistant Secretary, Office of Communications and Outreach

DBGS00554 Confidential Assistant to the Deputy Chief of Staff for Policy and Programs

DBGS00555 Confidential Assistant to the Assistant Secretary for Management

DBGS00557 Special Assistant to the Director, White House Initiative on Hispanic Education

DBGS00558 Confidential Assistant to the Assistant Secretary for Elementary and Secondary Education

DBGS00559 Special Assistant to the Secretary's Regional Representative, Region 8

DBGS00561 Deputy Assistant Secretary for Policy and Strategic Initiatives to the Assistant Secretary for Elementary and Secondary Education

DBGS00562 Confidential Assistant to the Deputy Assistant Secretary for Communications and Outreach

DBGS00563 Confidential Assistant to the Assistant Secretary for Elementary and Secondary Education

DBGS00564 Special Assistant to the Deputy Assistant Secretary for Media Relations and Strategic Communications

DBGS00565 Confidential Assistant to the Director, Office of Educational Technology

DBGS00567 Chief of Staff to the Assistant Secretary, Office of Communications and Outreach

DBGS00568 Deputy Assistant Secretary for Policy and State Technical Assistance to the Assistant Secretary for Elementary and Secondary Education

DBGS00569 Special Assistant to the Assistant Secretary for Elementary and Secondary Education

DBGS00572 Special Assistant to the Assistant Secretary for Vocational and Adult Education

DBGS00573 Confidential Assistant to the Deputy Assistant Secretary

DBGS00574 Deputy Assistant Secretary for Community Colleges to the Assistant Secretary for Vocational and Adult Education

DBGS00575 Confidential Assistant to the Director, White House Liaison

DBGS00576 Special Assistant to the Director, Scheduling and Advance Staff

DBGS00577 Special Assistant to the Assistant Secretary for Legislation and Congressional Affairs

DBGS00578 Confidential Assistant to the Assistant Secretary for Elementary and Secondary Education

DBGS00579 Confidential Assistant to the Assistant Secretary for Legislation and Congressional Affairs

DBGS00580 Deputy Assistant Secretary for Performance Improvement to the Assistant Secretary for Management

DBGS00581 Special Assistant to the Assistant Secretary for Legislation and Congressional Affairs

DBGS00582 Confidential Assistant to the Assistant Secretary for Postsecondary Education

DBGS00583 Confidential Assistant to the Senior Advisor to the Under Secretary

DBGS00584 Confidential Assistant to the Deputy Assistant Secretary for Media Relations and Strategic Communications

DBGS00585 Senior Advisor to the Deputy Secretary to the Deputy Secretary of Education

DBGS00588 Special Assistant to the Assistant Secretary for Legislation and Congressional Affairs

DBGS00589 Confidential Assistant to the Director, Scheduling and Advance Staff

DBGS00590 Special Assistant to the Assistant Secretary, Office of Communications and Outreach

DBGS00591 Confidential Assistant to the Press Secretary

DBGS00592 Special Assistant to the Special Assistant to the Assistant Secretary, Office of Communications and Outreach

DBGS00593 Special Assistant to the Special Assistant to Assistant Secretary, Office of Communications and Outreach

DBGS00594 Confidential Assistant to the Press Secretary

DBGS00596 Associate Assistant Deputy Secretary to the Assistant Deputy Secretary

DBGS00597 Confidential Assistant to the Assistant Deputy Secretary

DBGS00598 Confidential Assistant to the Assistant Secretary for Legislation and Congressional Affairs

DBGS00599 Special Assistant to the Secretary's Regional Representative

DBGS00600 Special Assistant to the General Counsel

DBGS00601 Special Assistant to the Director, Intergovernmental Affairs

DBGS00602 Confidential Assistant to the Assistant Secretary, Office of Communications and Outreach

DBGS00604 Deputy Director, Office of International Affairs to the Director, International Affairs Office

DBGS00605 Deputy Secretary's Regional Representative to the Director, Regional Services

DBGS00606 Secretary's Regional Representative, Region 3 to the Director, Regional Services

DBGS00607 Confidential Assistant to the Assistant Secretary for Special Education and Rehabilitative Services

DBGS00609 Special Assistant to the Under Secretary

DBGS00611 Chief of Staff to the Deputy Assistant Secretary

DBGS00612 Special Assistant to the General Counsel

DBGS00613 Special Assistant to the Assistant Secretary for Legislation and Congressional Affairs

DBGS00614 Confidential Assistant to the Assistant Secretary, Office of Communications and Outreach

DBGS00615 Special Assistant to the Assistant Secretary for Elementary and Secondary Education

DBGS00616 Special Assistant to the Assistant Secretary for Elementary and Secondary Education

DBGS00617 Confidential Assistant to the Chief of Staff

DBGS00618 Chief of Staff to the Assistant Deputy Secretary

DBGS00619 Confidential Assistant to the Deputy Assistant Secretary

DBGS00620 Special Assistant to the Assistant Secretary for Postsecondary Education

DBGS00621 Confidential Assistant to the Senior Advisor to the Under Secretary

DBGS60077 Special Assistant to the Director, Office of Scheduling and Briefing

DBGS60143 Confidential Assistant to the Director, Faith-Based and Community Initiatives Center

Section 213.3318 Environmental Protection Agency

EPGS00922 Associate Assistant Administrator to the Assistant Administrator for Research and Development

EPGS03200 Director of Scheduling to the Deputy Chief of Staff (Operations)

EPGS03500 Senior Policy Advisor to the Deputy Assistant Administrator for Water

EPGS04025 Counselor to the Administrator for Agricultural Policy to the Administrator

EPGS05007 Associate Director, Office of Executive Secretariat to the Chief of Staff

EPGS05024 Deputy Associate Administrator to the Associate Administrator for Public Affairs

EPGS05031 Program Specialist to the Assistant Administrator for Administration and Resources Management

EPGS05034 Program Advisor to the Associate Administrator for Congressional and Intergovernmental Relations

EPGS05036 Program Advisor Office of Public Affairs to the Deputy Chief of Staff (Operations)

EPGS06000 Senior Policy Advisor to the Regional Administrator

EPGS06008 Advance Specialist to the Deputy Chief of Staff (Operations)

EPGS06015 Staff Secretary to the Chief of Staff

EPGS06018 Program Manager (Operations) to the Administrator

EPGS06022 Program Advisor to the Associate Administrator for Congressional and Intergovernmental Relations

EPGS06023 Senior Speechwriter to the Associate Administrator for Public Affairs

EPGS06024 Associate Assistant Administrator to the Assistant Administrator for Solid Waste and Emergency Response

EPGS06028 Deputy Associate Administrator to the Associate Administrator for Congressional and Intergovernmental Relations

EPGS06030 Program Specialist to the Associate Administrator for Policy, Economics and Innovation

EPGS06031 Advance Specialist to the Director of Advance

EPGS06033 Confidential Assistant to the Deputy Administrator

EPGS06034 Deputy Speech Writer to the Associate Administrator for Public Affairs

EPGS06035 Advance Specialist to the Director of Advance

EPGS06036 Supervisory Public Affairs Specialist to the Associate Administrator for Public Affairs

EPGS06037 Senior Policy Advisor to the Deputy Administrator

EPGS07000 Deputy Press Secretary to the Associate Administrator for Public Affairs

EPGS07001 Program Advisor to the Associate Administrator for Public Affairs

EPGS07002 Assistant to the Scheduler to the Director of Scheduling

EPGS07003 Deputy of Advance to the Director of Advance

EPGS07004 Communications Specialist to the Principal Deputy Assistant Administrator for Enforcement and Compliance Assurance

EPGS07005 Program Advisor (Media Relations) to the Deputy Chief of Staff (Operations)

EPGS07007 Audio Visual Producer to the Deputy Chief of Staff (Operations)

EPGS07009 Special Assistant to the Regional Administrator to the Regional Administrator

EPGS07010 Press Secretary to the Associate Administrator for Public Affairs

EPGS07011 Associate Assistant Administrator/White House Liaison to the Assistant Administrator for Administration and Resources Management

EPGS07012 Advance Specialist to the Director of Advance

EPGS60069 Special Assistant for Communications to the Assistant Administrator for Water

EPGS60071 Senior Advisor to the Assistant Administrator for International Activities

EPGS60074 Policy Analyst to the Assistant Administrator for Air and Radiation

EPGS60076 Senior Counsel to the Associate Administrator for Congressional and Intergovernmental Relations Council of Economic Advisers

Section 213.3323 Overseas Private Investment Corporation

PQGS06001 Confidential Assistant to the Deputy Chief of Staff and Senior Advisor to President

PQGS06002 Confidential Assistant to the Chief of Staff

PQGS06015 Special Assistant to the Vice President, Investment Funds to the Vice President, Investment Funds

PQGS60018 Executive Assistant to the President

PQGS60020 Executive Assistant to the Executive Vice President

Section 213.3325 United States Tax Court

JCGS60040 Secretary (Confidential Assistant) to a Chief Judge

JCGS60041 Secretary (Confidential Assistant) to a Chief Judge

JCGS60042 Secretary (Confidential Assistant) to a Chief Judge

JCGS60043 Secretary (Confidential Assistant) to a Chief Judge

JCGS60044 Secretary (Confidential Assistant) to a Chief Judge

JCGS60045 Secretary (Confidential Assistant) to a Chief Judge

JCGS60046 Secretary (Confidential Assistant) to a Chief Judge

JCGS60047 Secretary (Confidential Assistant) to a Chief Judge

JCGS60048 Secretary (Confidential Assistant) to a Chief Judge

JCGS60049 Secretary (Confidential Assistant) to a Chief Judge

JCGS60050 Secretary (Confidential Assistant) to a Chief Judge

JCGS60051 Secretary (Confidential Assistant) to a Chief Judge

JCGS60052 Secretary (Confidential Assistant) to a Chief Judge

JCGS60053 Secretary (Confidential Assistant) to a Chief Judge

JCGS60054 Secretary (Confidential Assistant) to a Chief Judge

JCGS60056 Secretary (Confidential Assistant) to a Chief Judge

JCGS60057 Secretary (Confidential Assistant) to a Chief Judge

JCGS60058 Secretary (Confidential Assistant) to a Chief Judge

JCGS60059 Secretary (Confidential Assistant) to a Chief Judge

JCGS60060 Secretary (Confidential Assistant) to a Chief Judge

JCGS60061 Secretary (Confidential Assistant) to a Chief Judge

JCGS60062 Secretary (Confidential Assistant) to a Chief Judge

JCGS60063 Secretary (Confidential Assistant) to a Chief Judge

JCGS60064 Secretary (Confidential Assistant) to a Chief Judge

JCGS60065 Secretary (Confidential Assistant) to a Chief Judge

JCGS60067 Trial Clerk to the Chief Judge

JCGS60068 Trial Clerk to the Chief Judge

JCGS60069 Trial Clerk to the Chief Judge

JCGS60071 Trial Clerk to the Chief Judge

JCGS60072 Trial Clerk to the Chief Judge

JCGS60073 Trial Clerk to the Chief Judge

JCGS60074 Trial Clerk to the Chief Judge

JCGS60077 Trial Clerk to the Chief Judge

JCGS60079 Trial Clerk to the Chief Judge

Section 213.3327 Department of Veterans Affairs

DVGS00082 Special Assistant to the Assistant Secretary for Public and Intergovernmental Affairs

DVGS60011 Special Assistant to the Assistant Secretary for Public and Intergovernmental Affairs

DVGS60015 Special Assistant to the Special Assistant (Supervisory Regional Veterans Service Liaison Officer)

DVGS60032 Director, Center for Faith Based Community Initiatives to the Secretary of Veterans Affairs

DVGS60036 Protocol Liaison Officer to the Secretary of Veterans Affairs

DVGS60056 Special Assistant to the Senior Advisor

DVGS60069 Special Assistant to the Secretary of Veterans Affairs

Section 213.3328 Broadcasting Board of Governors

IBGS00013 Chief of Staff to the Director Office of Cuba Broadcasting

IBGS00018 Senior Projects Officer to the Director

IBGS00020 Special Assistant to the Chairman, Broadcasting Board of Governors

Section 213.3330 Securities and Exchange Commission

SEOT60002 Confidential Assistant to a Commissioner

SEOT60004 Director of Legislative Affairs to the Chairman

SEOT60007 Confidential Assistant to a Commissioner

SEOT60008 Secretary (Office Automation) to the Chief Accountant

SEOT60009 Secretary to the General Counsel of the Commission

SEOT60012 Investor Advocate to the Chairman

SEOT60016 Secretary to the Director, Division of Enforcement

SEOT60029 Secretary to the Director, Division of Market Regulation

SEOT60052 Chief of Staff to the Chairman

SEOT60054 Secretary to the Director, Division of Market Regulation

SEOT60056 Legislative Affairs Specialist to the Director of Communications

SEOT90001 Senior Advisor to the Chairman to the Chairman

SEOT90006 Confidential Assistant to a Commissioner

SEOT90007 Confidential Assistant to the Chairman

SEOT90008 Confidential Assistant to a Commissioner

Section 213.3331 Department of Energy

DEGS00395 Special Assistant to the Chief of Staff

DEGS00439 Senior Policy Advisor to the Assistant Secretary for Fossil Energy

DEGS00440 Special Assistant to the Communications Director

DEGS00443 Senior Policy Advisor to the Principal Deputy Assistant Secretary for Fossil Energy

DEGS00469 Advance Representative to the Director, Office of Scheduling and Advance

DEGS00476 Policy Advisor to the Director, Office of Legacy Management

DEGS00480 Senior Policy Advisor for Middle East Affairs to the Assistant Secretary for Policy and International Affairs

DEGS00485 Director, Office of Scheduling and Advance to the Chief of Staff

DEGS00489 Special Assistant to the Deputy Secretary to the Chief of Staff

DEGS00493 Senior Policy Advisor to the Director, Office of Management

DEGS00498 Public Affairs Specialist to the Director of Congressional, Intergovernmental and Public Affairs

DEGS00503 Speechwriter to the Director, Public Affairs

DEGS00510 Lead Advance Representative to the Director, Office of Scheduling and Advance

DEGS00512 Press Secretary to the Director, Public Affairs

DEGS00518 Senior Legislative Advisor to the Assistant Secretary for Congressional and Intergovernmental Affairs

DEGS00519 Special Assistant to the Assistant Secretary for Congressional and Intergovernmental Affairs

DEGS00523 Trip Coordinator to the Director, Office of Scheduling and Advance

DEGS00524 Assistant Press Secretary to the Director, Public Affairs

DEGS00525 Deputy White House Liaison to the White House Liaison

DEGS00526 Trip Coordinator to the Director, Office of Scheduling and Advance

DEGS00527 Staff Assistant to the Director, Office of Scheduling and Advance

DEGS00528 Advisor to the Under Secretary to the Senior Advisor

DEGS00531 Senior Advisor to the Chief Operating Officer for Energy Efficiency and Renewable Energy

DEGS00532 Special Assistant to the Assistant Secretary for Congressional and Intergovernmental Affairs

DEGS00533 Senior Policy Advisor to the Assistant Secretary for Environment, Safety and Health

DEGS00534 Senior Advisor to the Chief of Staff

DEGS00535 Web Content Manager to the Senior Policy Advisor

DEGS00536 Policy Advisor to the Senior Advisor

DEGS00537 Program Assistant to the Assistant Secretary of Energy (Nuclear Energy)

DEGS00540 Special Assistant to the Director, Office of Electricity Delivery and Energy Reliability

DEGS00541 Director of Commercialization and Deployment to the Chief Operating Officer for Energy Efficiency and Renewable Energy

DEGS00542 Special Assistant to the Director, Public Affairs

DEGS00543 Communications Assistant to the Under Secretary for Science

DEGS00544 Senior Communications Advisor to the Assistant Secretary of Energy (Environmental Management)

DEGS00547 Scheduler to the Secretary to the Director, Office of Scheduling and Advance

DEGS00548 Staff Assistant to the General Counsel

DEGS00549 Senior Advisor to the Chief Operating Officer for Energy Efficiency and Renewable Energy

DEGS00550 Confidential Assistant to the Assistant Secretary for Congressional and Intergovernmental Affairs

DEGS00555 Deputy Chief of Staff to the Chief of Staff

DEGS00557 Special Assistant to the Director, Office of Electricity Delivery and Energy Reliability

DEGS00558 Advisor, Legislative Affairs to the Chief Operating Officer for Energy Efficiency and Renewable Energy

DEGS00559 Special Assistant to the Assistant Secretary of Energy (Nuclear Energy)

DEGS00561 Senior Advisor to the Chief of Staff

DEGS00562 Senior Policy Advisor to the Associate Director for System Operations and External Relations

DEGS00563 Special Assistant to the Assistant Secretary for Congressional and Intergovernmental Affairs

DEGS00564 Special Assistant to the Principal Deputy Assistant Secretary

DEGS00565 Special Assistant, Deputy Director of Scheduling and Advance to the Director, Office of Scheduling and Advance

DEGS00567 Deputy Director, Public Affairs to the Director, Public Affairs

DEGS00568 Special Assistant for Communications to the Director, Office of Electricity Delivery and Energy Reliability

DEGS00569 Transmission Siting Analyst to the Director, Office of Electricity Delivery and Energy Reliability

DEGS00570 Senior Policy Advisor to the Assistant Secretary of Energy (Environmental Management)

DEGS00571 Special Assistant to the Director, Office of Science

DEGS00572 Policy Advisor to the Deputy Assistant Secretary for International Affairs

DEGS00573 Senior Counsel to the General Counsel

DEGS00574 Deputy Assistant Secretary for Energy Policy to the Assistant Secretary for Congressional and Intergovernmental Affairs

DEGS00575 Director of Intergovernmental and Tribal Affairs to the Deputy Assistant Secretary for Intergovernmental and External Affairs

DEGS00576 Intergovernmental Liaison Officer to the Assistant Secretary for Congressional and Intergovernmental Affairs

DEGS00577 Staff Assistant to the Director, Office of Scheduling and Advance

DEGS00579 Senior Policy Advisor to the Deputy Administrator for Defense Nuclear Nonproliferation

DEGS00582 Special Assistant to the Chief of Staff

DEGS00585 Special Assistant to the Associate Director

DEGS00586 Director, Office of Technology Advancement and Outreach to the Chief Operating Officer for Energy Efficiency and Renewable Energy

DEGS00587 Special Assistant to the Chief of Staff

DEGS00589 Senior Advisor to the Chief Operating Officer for Energy Efficiency and Renewable Energy

DEGS00591 Special Assistant for Communication to the Chief Operating Officer for Energy Efficiency and Renewable

DEGS00592 Small Business Specialist to the Associate Director

DEGS00593 Congressional Affairs Specialist to the Director, Congressional Affairs

DEGS00594 Senior Advisor for Public Affairs to the Director, Public Affairs (National Nuclear Security Administration)

DEGS00598 Special Assistant to the Assistant Secretary for Policy and International Affairs

DEGS60121 Special Assistant to the Director, Office of Scheduling and Advance

DEGS60233 Special Assistant to the Assistant Secretary for Policy and International Affairs

DEGS60265 Senior Advisor, Congressional and Intergovernmental Affairs to the Director, Office of Science

DEGS60276 Senior Policy Advisor to the Director, Office of Science

Section 213.3331 Federal Energy Regulatory Commission

DRGS17039 Confidential Assistant to the Member-Federal Energy Regulatory Commission

DRGS17040 Congressional, Intergovernmental and Public Affairs Specialist to the Director, Office of External Affairs

DRGS60001 Regulatory Policy Analyst to the Director, Markets, Tariffs, and Rates

DRGS60003 Confidential Assistant to the Member-Federal Energy Regulatory Commission

DRGS60007 Confidential Assistant to the Member-Federal Energy Regulatory Commission

Section 213.3332 Small Business Administration

SBGS00540 Director of Small Business Association's Center for Faith-Based and Community Initiatives to the Chief of Staff and Chief Operating Officer

SBGS00555 Legislative Assistant to the Assistant Administrator for Congressional and Legislative Affairs

SBGS00572 Regional Administrator (Region 2) to the Associate Administrator for Field Operations

SBGS00574 Assistant Administrator for Field Operations to the Associate Administrator for Field Operations

SBGS00576 Deputy Associate Administrator for Office of Communications and Public Liaison to the Associate Administrator for Communications and Public Liaison

SBGS00587 Senior Advisor for Policy and Planning to the Associate Administrator for Policy

SBGS00589 Legislative Assistant to the Assistant Administrator for Congressional and Legislative Affairs

SBGS00592 Regional Administrator, Region III, Philadelphia, PA to the Associate Administrator for Field Operations

SBGS00593 Deputy Assistant Administrator for Congressional and Legislative Affairs to the Assistant Administrator for Congressional and Legislative Affairs

SBGS00594 Press Secretary to the Associate Administrator for Communications and Public Liaison

SBGS00597 Director of Scheduling to the Chief of Staff and Chief Operating Officer

SBGS00600 Director of External Affairs to the Associate Administrator for Field Operations

SBGS00601 Associate Administrator for Field Operations to the Administrator

SBGS00602 Special Assistant to the Administrator

SBGS00603 Policy Analyst to the Associate Administrator for Policy

SBGS00604 Director of Scheduling and Advance to the Chief of Staff

SBGS00606 Speech Writer to the Associate Administrator for Communications and Public Liaison

SBGS00607 White House Liaison to the Chief of Staff

SBGS00608 Assistant Administrator for Congressional and Legislative Affairs

SBGS00609 Director of Performance Management to the Associate Administrator for Performance Management and Chief Financial Officer

SBGS00610 Senior Advisor to the Associate Administrator for Capital Access to the Associate Administrator for Capital Access

SBGS00612 Deputy Assistant Administrator for Faith Based Community Initiatives to the Director of Small Business Administration's Center for Faith-Based and Community Initiatives

SBGS00613 Legislative Assistant to the Assistant Administrator for Congressional and Legislative Affairs

SBGS00614 Senior Advisor to the Deputy Administrator

SBGS00615 Senior Advisor, Office of Performance Management to the Director of Performance Management

SBGS00616 Deputy Associate Administrator for Field Operations to the Associate Administrator for Field Operations

SBGS00617 Special Assistant to the Associate Administrator for Government Contracting and Business Development

SBGS60003 National Director for Native American Affairs to the Associate Administrator for Entrepreneurial Development

SBGS60170 Regional Administrator, Region VIII, Denver Colorado to the Assistant Inspector General for Inspections and Evaluation

SBGS60171 Regional Administrator, Region VII, Kansas City, Missouri to the District Director

SBGS60173 Regional Administrator, Region VI, Dallas, Texas to the District Director

SBGS60174 Regional Administrator to the Associate Administrator for Field Operations

SBGS60175 Regional Administrator to the District Director

SBGS60188 Regional Administrator, Region IX, San Francisco to the Administrator

SBGS60189 Regional Administrator, Region 10, Seattle Washington to the Associate Administrator for Field Operations

SBGS60190 Deputy Chief of Staff

SBGS60559 Assistant Administrator for Congressional and Legislative Affairs to the Assistant Administrator for Congressional and Legislative Affairs

Section 213.3333 Federal Deposit Insurance Corporation

FDOT00010 Chief of Staff to the Chairman of the Board of Directors (Director)

FDOT00012 Director for Public Affairs to the Chairman of the Board of Directors (Director)

Section 213.3334 Federal Trade Commission

FTGS60001 Director, Office of Public Affairs to the Chairman

FTGS60006 Congressional Liaison Specialist to the Chairman

FTGS60027 Confidential Assistant to a Commissioner

Section 213.3337 General Services Administration

GSGS00084 Special Assistant to the Regional Administrator, Region VI, Kansas City

GSGS00087 Senior Advisor to the Regional Administrator, (Region IX, San Francisco)

GSGS00130 Senior Advisor to the Regional Administrator-Region 7, Fort Worth Texas

GSGS00132 Special Assistant to the Regional Administrator to the Regional Administrator, Region 10, Auburn, Washington

GSGS00156 Confidential Assistant to the Chief of Staff

GSGS00159 Deputy Director for Communications to the Deputy Associate Administrator for Communications

GSGS00161 Public Affairs Specialist to the Deputy Director for Communications

GSGS00163 Special Assistant to the Associate Administrator for Performance Improvement

GSGS00165 Special Assistant to the Chief Acquisition Officer

GSGS00166 Deputy Associate Administrator for Small Business Utilization to the Associate Administrator for Small Business Utilization

GSGS00172 Senior Advisor to the Commissioner, Public Buildings Service

GSGS00173 Senior Advisor to the Chief Acquisition Officer

GSGS00174 Principal Deputy Associate Administrator for Congressional and Intergovernmental Affairs to the Associate Administrator for Congressional and Intergovernmental Affairs

GSGS00176 Senior Advisor to the Associate Administrator for Congressional and Intergovernmental Affairs

GSGS00177 Deputy Chief of Staff to the Chief of Staff

GSGS00178 Special Assistant to the Chief Acquisition Officer

GSGS00179 Small Business Specialist to the Associate Administrator for Small Business Utilization

GSGS00182 Confidential Assistant to the Administrator

GSGS00184 Deputy Associate Administrator for Congressional and Intergovernmental Affairs to the Associate Administrator for Congressional and Intergovernmental Affairs

GSGS00185 Deputy Associate Administrator for Congressional and Intergovernmental Affairs to the Associate Administrator for Congressional and Intergovernmental Affairs

GSGS00186 Confidential Assistant to the Associate Administrator for Performance Improvement

GSGS00187 Deputy Associate Administrator for Congressional and Intergovernmental Affairs to the Principal Deputy Associate Administrator for Congressional and Intergovernmental Affairs

GSGS00188 Senior Advisor to the Regional Administrator (Region VIII, Denver, Colorado)

GSGS60082 Senior Advisor to the Regional Administrator, Regional 4, Atlanta, Georgia

GSGS60089 Confidential Assistant to the Administrator

GSGS60095 White House Liaison to the Chief of Staff

GSGS60113 Special Assistant to the Regional Administrator Region 1, Boston

GSGS60119 Senior Advisor to the Deputy Regional Administrator

GSGS60126 Deputy Associate Administrator for Communications to the Associate Administrator for Citizen Services and Communications

GSGS60127 Associate Administrator for Small Business Utilization to the Administrator

GSGS60131 Director of Strategic Communications to the Deputy Associate Administrator for Communications

Section 213.3338 Federal Communications Commission

FCGS03051 Deputy Director, Office of Media Relations to the Chief of Staff

FCGS07052 Bureau Chief to the Chairman

FCGS07077 Associate Director-Senior Speechwriter to the Chairman

FCGS60005 Special Assistant to the Director, Office of Legislative Affairs

FCGS95448 Attorney Advisor (Legal Advisor) to the Chairman

Section 213.3339 United States International Trade Commission

TCGS00007 Staff Assistant (Legal) to a Commissioner

TCGS00010 Staff Assistant (Legal) to a Commissioner

TCGS00012 Staff Assistant (Legal) to a Commissioner

TCGS00013 Staff Assistant (Economics) to the Vice Chairman

TCGS00025 Confidential Assistant to a Commissioner

TCGS00031 Executive Assistant to a Commissioner

TCGS00033 Staff Assistant to a Commissioner

TCGS00037 Staff Assistant (Legal) to the Chairman

TCGS60005 Staff Assistant (Legal) to a Commissioner

TCGS60006 Staff Assistant (Legal) to a Commissioner

TCGS60007 Staff Assistant (Economics) to a Commissioner

TCGS60015 Executive Assistant to the Vice Chairman

TCGS60018 Staff Assistant (Legal) to a Commissioner

TCGS60019 Staff Assistant (Legal) to a Commissioner

TCGS60022 Staff Assistant (Legal) to a Commissioner

TCGS60025 Staff Assistant (Legal) to a Commissioner

TCGS60030 Confidential Assistant to a Commissioner

TCGS60100 Senior Economist to a Commissioner

TCGS60101 Executive Assistant to the Vice Chairman

Section 213.3340 National Archives and Records Administration

NQGS60003 Presidential Diarist to the Archivist of the United States

Section 213.3342 Export-Import Bank

EBSL47970 Senior Vice President and Chief of Staff to the President and Chairman

Section 213.3343 Farm Credit Administration

FLOT00028 Director, Congressional and Public Affairs to the Chairman, Farm Credit Administration Board

FLOT00054 Chief of Staff to the Chairman, Farm Credit Administration Board

FLOT00080 Executive Assistant to Member to the Chairman, Farm Credit Administration Board

FLOT60013 Executive Assistant to the Member, Farm Credit Administration Board

Section 213.3344 Occupational Safety and Health Review Commission

SHGS00003 Confidential Assistant to a Commission Member

SHGS00004 Confidential Assistant to a Commission Member

SHGS60007 Counsel to a Commissioner to a Commission Member

SHGS60008 Counsel to a Commissioner to a Commission Member

Section 213.3346 Selective Service System

SSGS00001 Public Affairs Specialist to the Director

SSGS03373 Administrative Assistant to the Director Selective Service System

Section 213.3348 National Aeronautics and Space Administration

NNGS00044 Legislative Affairs Specialist to the Assistant Administrator for Legislative Affairs and Intergovernmental Affairs

NNGS00155 Program Specialist to the Chief of Strategic Communications

NNGS00168 Editor to the Assistant Administrator for Public Affairs

NNGS00170 Program Specialist to the Deputy Administrator

NNGS00171 Senior Legislative Affairs Program Specialist to the Assistant Administrator for Legislative Affairs and Intergovernmental Affairs

NNGS00172 Congressional Relations Specialist to the Assistant Administrator for Legislative Affairs and Intergovernmental Affairs

NNGS00176 Deputy Press Secretary/Public Affairs Specialist to the Assistant Administrator for Public Affairs

NNGS00177 Writer/Editor to the Associate Deputy Administrator for Policy and Planning

NNGS02317 Special Assistant to the Inspector General

NNGS60020 Writer-Editor to the Assistant Administrator for Public Affairs

Section 213.3351 Federal Mine Safety and Health Review Commission

FRGS60024 Confidential Assistant to the Chairman

FRGS90501 Attorney Advisor (General) to the Chairman

FRGS90504 Attorney Advisor (General) to a Member

Section 213.3353 Merit Systems Protection Board

MPGS00002 Confidential Assistant to the Member to a Member

MPGS00003 Confidential Assistant to the Member to a Board Member

MPGS60010 Confidential Assistant to the Chairman

MPSL00001 Chief Counsel to the Vice-Chair to the Vice Chairman

Section 213.3355 Social Security Administration

SZGS00017 Associate Commissioner for External Affairs to the Deputy Commissioner for Communications

SZGS00018 Special Assistant to the Commissioner to the Chief of Staff

Section 213.3356 Commission on Civil Rights

CCGS00017 Special Assistant to the Commissioner to a Commissioner

CCGS60013 Special Assistant to a Commissioner

CCGS60020 Special Assistant to the Commissioner to the Chairman

CCGS60031 General Counsel to the Staff Director

CCGS60033 Special Assistant to a Commissioner

Section 213.3357 National Credit Union Administration

CUOT00025 Staff Assistant to a Board Member

CUOT00026 Staff Assistant to the Vice Chair

CUOT00030 Associate Director of External Affairs to the Chairman

CUOT01008 Senior Policy Advisor to a Board Member

CUOT01009 Senior Policy Advisor to a Board Member

CUOT01317 Senior Policy Advisor to the Chairman

Section 213.3360 Consumer Product Safety Commission

PSGS00066 Supervisory Public Affairs Specialist to the Executive Director

PSGS60007 Director, Office of Congressional Relations to the Chairman, Consumer Product Safety Commission

PSGS60010 Executive Assistant to a Commissioner

PSGS60014 General Counsel to the Chairman, Consumer Product Safety Commission

PSGS60049 Special Assistant (Legal) to a Commissioner

PSGS60061 Executive Assistant to a Commissioner

PSGS60062 Special Assistant (Legal) to a Commissioner

PSGS60063 Special Assistant (Legal) to a Commissioner

Section 213.3365 Chemical Safety and Hazard Investigation Board

FJGS60001 Special Assistant to the Chief Operating Officer

Section 213.3367 Federal Maritime Commission

MCGS60003 Counsel to the Commissioner to a Member

MCGS60006 Counsel to the Commissioner to a Member

MCGS60042 Counsel to a Member

Section 213.3370 Millennium Challenge Corporation

CMOT00001 Executive Assistant to the Chief Executive Officer

Section 213.3371 Office of Government Ethics

GGGS02900 Confidential Assistant to the Director

Section 213.3373 Trade and Development Agency

TDGS00004 Public Affairs Specialist to the Director

TDGS60001 Executive Assistant to the Director

TDGS60002 Congressional Liaison to the Director

Section 213.3376 Appalachian Regional Commission

APGS00005 Confidential Policy Advisor to the Federal Co-Chairman

Section 213.3379 Commodity Futures Trading Commission

CTGS00030 Chief of Staff to the Chairperson

CTGS00091 Chief Economist to the Chairperson

CTGS60004 Administrative Assistant to the Commissioner to a Commissioner

CTGS60014 Special Assistant to the Commissioner to a Commissioner

CTGS60477 Attorney-Advisor (General) to a Commissioner

CTGS60768 Director, Office of External Affairs to the Chairperson

Section 213.3382 National Endowment for the Arts

NAGS00062 Counselor to the Chairman to the Chairman National Endowment for the Arts

NAGS60049 Congressional Liaison to the Director, Office of Government Affairs

NAGS60077 Director of Communications to the Chairman, National Endowment for the Arts

NASL00001 Executive Director, Presidents Committee on the Arts and Humanities to the Chairman National Endowment for the Arts

Section 213.3382 National Endowment for the Humanities

NHGS00078 Associate Director of Communications and Chief Speechwriter to the Director of Communications

NHGS00080 Director of Congressional Affairs to the Chairman

NHGS60075 Director of Communications to the Deputy Chairman

NHGS60077 Senior Advisor to the Chairman to the Chairman

Section 213.3384 Department of Housing and Urban Development

DUGS00032 Deputy Assistant Secretary for Congressional Relations to the Assistant Secretary for Public and Indian Housing

DUGS00041 Advance Coordinator to the Assistant Secretary for Administration/Chief Human Capital Officer

DUGS00044 Special Assistant to the Deputy Secretary, Housing and Urban Development

DUGS60039 Staff Assistant to the Assistant Secretary for Community Planning and Development

DUGS60110 Staff Assistant to the Assistant Secretary for Housing, Federal Housing Commissioner

DUGS60138 Special Assistant to the Assistant Secretary for Community Planning and Development

DUGS60151 Staff Assistant to the Assistant Secretary for Public Affairs

DUGS60168 Staff Assistant to the Chief of Staff

DUGS60174 Congressional Relations Officer to the Deputy Assistant Secretary for Congressional Relations

DUGS60175 Special Assistant to the Deputy Assistant Secretary for Congressional and Intergovernmental Relations

DUGS60176 Staff Assistant to the Deputy Assistant Secretary for Congressional Relations

DUGS60187 Staff Assistant to the Assistant Secretary for Public Affairs

DUGS60195 Staff Assistant to the Deputy Assistant Secretary for Economic Development

DUGS60206 Intergovernmental Relations Specialist to the Assistant Secretary for Congressional and Intergovernmental Relations

DUGS60210 Special Assistant to the Assistant Secretary for Congressional and Intergovernmental Relations

DUGS60211 Advance Coordinator to the Director, Office of Executive Scheduling and Operations

DUGS60217 Special Policy Advisor to the Assistant Secretary for Policy Development and Research

DUGS60224 Regional Director, Seattle, Washington to the Deputy Secretary, Housing and Urban Development

DUGS60232 Staff Assistant to the Assistant Deputy Secretary for Field Policy and Management

DUGS60238 Special Assistant to the Regional Director to the Regional Director

DUGS60255 Special Assistant to the Assistant Secretary for Policy Development and Research

DUGS60281 Special Projects Officer to the Assistant Secretary for Housing, Federal Housing Commissioner

DUGS60288 Congressional Relations Officer to the Assistant Secretary for Congressional and Intergovernmental Relations

DUGS60289 Special Policy Advisor to the Assistant Secretary for Community Planning and Development

DUGS60291 Staff Assistant to the Secretary, Housing and Urban Development

DUGS60293 Staff Assistant to the President, Government National Mortgage Association

DUGS60319 Regional Director to the Assistant Deputy Secretary for Field Policy and Management

DUGS60330 Deputy Assistant Secretary for Economic Development to the Assistant Secretary for Community Planning and Development

DUGS60338 Special Policy Advisor to the Assistant Secretary for Housing, Federal Housing Commissioner

DUGS60340 Special Assistant to the Chief of Staff

DUGS60354 Special Assistant to the Assistant Secretary for Public and Indian Housing

DUGS60357 Staff Assistant to the Chief of Staff

DUGS60366 Deputy Assistant Secretary for Regulatory Affairs and Manufactured Housing to the Deputy Assistant Secretary for Regulatory Affairs and Manufactured Housing

DUGS60373 Media Outreach Specialist to the Assistant Secretary for Public Affairs

DUGS60385 Staff Assistant to the General Deputy Assistant Secretary for Public Affairs

DUGS60390 Senior Legislative Specialist to the Assistant Secretary for Congressional and Intergovernmental Relations

DUGS60391 Special Assistant to the Regional Director

DUGS60394 Staff Assistant to the Assistant Secretary for Community Planning and Development

DUGS60410 Special Assistant to the General Counsel

DUGS60411 Special Assistant to the General Counsel

DUGS60416 Staff Assistant to the Assistant Secretary for Public and Indian Housing

DUGS60419 Speechwriter to the General Deputy Assistant Secretary for Public Affairs

DUGS60421 Director, Office of Executive Scheduling and Operations to the Assistant Secretary for Administration/Chief Human Capital Officer

DUGS60423 Staff Assistant to the Assistant Secretary for Administration/Chief Human Capital Officer

DUGS60427 Staff Assistant to the Assistant Secretary for Administration/Chief Human Capital Officer

DUGS60431 Regional Director, Kansas City, Kansas to the Deputy Assistant Secretary for Congressional and Intergovernmental Relations

DUGS60447 Staff Assistant to the Assistant Secretary for Community Planning and Development

DUGS60449 Congressional Relations Specialist to the Deputy Assistant Secretary for Congressional Relations

DUGS60458 Legislative Specialist to the Deputy Assistant Secretary for Intergovernmental Relations

DUGS60464 Special Projects Coordinator to the Regional Director

DUGS60467 Staff Assistant to the Assistant Secretary for Community Planning and Development

DUGS60468 Staff Assistant to the Assistant Secretary for Community Planning and Development

DUGS60470 Staff Assistant to the General Counsel

DUGS60489 Director, Office of Receivership Oversight to the Assistant Secretary for Public and Indian Housing

DUGS60502 Special Policy Advisor to the Assistant Secretary for Public and Indian Housing

DUGS60505 Deputy Assistant Secretary for Intergovernmental Relations to the Assistant Secretary for Congressional and Intergovernmental Relations

DUGS60542 Assistant to the Secretary and White House Liaison to the Secretary, Housing and Urban Development

DUGS60543 Staff Assistant to the Director, Center for Faith Based and Community Initiatives

DUGS60546 Special Assistant to the Deputy Secretary, Housing and Urban Development

DUGS60571 Deputy Assistant for International Affairs to the Assistant Secretary for Policy Development and Research

DUGS60575 Special Assistant to the Assistant Deputy Secretary for Field Policy and Management

DUGS60588 Staff Assistant to the Assistant Secretary for Administration/Chief Human Capital Officer

DUGS60601 Legislative Specialist to the Assistant Secretary for Congressional and Intergovernmental Relations

DUGS60620 Staff Assistant to the Assistant Secretary for Administration/Chief Human Capital Officer

Section 213.3388 President's Commission on White House Fellowships

WHGS00018 Special Assistant to the Director, President's Commission on White House Fellowships

WHGS00019 Associate Director to the Director, President's Commission on White House Fellowships

WHGS00020 Staff Assistant to the Associate Director

Section 213.3389 National Mediation Board

NMGS60053 Confidential Assistant to the Chairman

NMGS60054 Confidential Assistant to a Board Member

NMGS60056 Confidential Assistant to a Board Member

Section 213.3391 Office of Personnel Management

PMGS00033 Chief, Office of Senate Affairs to the Director, Office of Congressional Relations

PMGS00052 Special Counsel to the General Counsel

PMGS00056 Special Assistant to the Director, Office of Communications and Public Liaison

PMGS00057 Executive Director to Chief Human Capital Officer Council to the Executive Director and Senior Counselor

PMGS00059 Congressional Relations Officer to the Director, Office of Congressional Relations

PMGS00063 Staff Assistant to the White House Liaison

PMGS30249 Congressional Relations Officer to the Director, Office of Congressional Relations

PMGS60018 Special Assistant to the Director, Office of Communications and Public Liaison

PMGS60019 Special Assistant to the Director, Office of Communications and Public Liaison

PMGS60028 Scheduler and Special Assistant to the Chief of Staff and Director of External Affairs

PMGS60051 Special Assistant to the Director, Office of Communications and Public Liaison

Section 213.3392 Federal Labor Relations Authority

FAGS60022 Executive Assistant to the Chairman

FAGS60023 Management Assistant to the General Counsel

Section 213.3393 Pension Benefit Guaranty Corporation

BGSL00063 Deputy Executive Director, Office of Policy and External Affairs to the Deputy Executive Director, Office of Policy and External Affairs

Section 213.3394 Department of Transportation

DTGS60017 Assistant to the Secretary for Policy to the Secretary

DTGS60054 Associate Director for Governmental Affairs to the Deputy Assistant Secretary for Governmental Affairs

DTGS60055 Associate Director for Governmental Affairs to the Assistant Secretary for Governmental Affairs

DTGS60117 Assistant to the Secretary for Policy to the Secretary

DTGS60139 Special Assistant to the Deputy Secretary

DTGS60159 Special Assistant to the Associate Administrator for Policy and Governmental Affairs

DTGS60173 Director of Congressional Affairs to the Administrator

DTGS60194 Special Assistant to the Administrator

DTGS60197 Confidential Assistant to the Chief of Staff

DTGS60199 Special Assistant to the Associate Administrator for Communications and Legislative Affairs

DTGS60202 Counselor to the Administrator

DTGS60229 Special Assistant to the Administrator

DTGS60239 Director, Office of Congressional and Public Affairs to the Administrator

DTGS60243 Speechwriter to the Associate Director for Speechwriting

DTGS60257 Deputy Director for Public Affairs to the Assistant to the Secretary and Director of Public Affairs

DTGS60274 Special Assistant to the Assistant to the Secretary and Director of Public Affairs

DTGS60279 Associate Director for Speechwriting to the Assistant to the Secretary and Director of Public Affairs

DTGS60292 Associate Director for Governmental Affairs to the Assistant Secretary for Governmental Affairs

DTGS60294 Counselor to the Under Secretary of Transportation for Policy

DTGS60301 Associate Director for Governmental Affairs to the Deputy Assistant Secretary for Governmental Affairs

DTGS60311 Special Assistant to the Director for Scheduling and Advance

DTGS60313 Director of External Affairs to the Administrator

DTGS60317 Deputy Assistant Administrator for Government and Industry Affairs to the Assistant Administrator for Government and Industry Affairs

DTGS60324 Director for Scheduling and Advance to the Chief of Staff

DTGS60337 Executive Director for Public Affairs to the Administrator

DTGS60342 Special Assistant for Scheduling and Advance to the Director for Scheduling and Advance

DTGS60351 Counselor to the Deputy Secretary

DTGS60357 Special Assistant to the White House Liaison and Scheduling and Advance to the Director for Scheduling and Advance

DTGS60364 Special Assistant to the Assistant Secretary for Transportation Policy

DTGS60369 Deputy Assistant Secretary for Governmental Affairs to the Assistant Secretary for Governmental Affairs

DTGS60371 Deputy Assistant Secretary for Governmental Affairs to the Assistant Secretary for Governmental Affairs

DTGS60375 White House Liaison to the Chief of Staff

DTGS60376 Director, Office of Small and Disadvantaged Business Utilization to the Secretary

DTGS60377 Director, Office of Governmental, International and Public Affairs to the Deputy Administrator

DTGS60379 Confidential Assistant to the Assistant to the Secretary and Director of Public Affairs

DTGS60380 Associate Administrator for Governmental, International, and Public Affairs to the Administrator

DTGS60381 Chief of Staff to the Administrator

DTGS60450 Deputy Director for Scheduling and Advance to the Secretary

DTGS60451 Director of Communications to the Administrator

DTGS60460 Director of Public Affairs to the Administrator Section

213.3396 National Transportation Safety Board

TBGS60025 Special Assistant to the Vice Chairman

TBGS60033 Assistant to the Director, National Transportation Safety Board Academy for Special Projects to the Chairman

TBGS60105 Confidential Assistant to the Vice Chairman

TBGS60107 Confidential Assistant to a Member

Section 213.3397 Federal Housing Finance Board

FBOT00004 Counsel to the Chairman

FBOT00005 Staff Assistant to the Chairman

FBOT00010 Special Assistant to the Board Director

FBOT60009 Special Assistant to the Board Director

Authority: 5 U.S.C. 3301 and 3302; E.O. 10577, 3 CFR 1954-1958 Comp., p. 218.

Office of Personnel Management.
Howard Weizmann,
Deputy Director.

[FR Doc. E7-20648 Filed 10-22-07; 8:45 am]

BILLING CODE 6325-39-P